DEPARTMENT OF HOUSING AND URBAN DEVELOPMENT

[Docket No. FR-4730-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Ms. Julie Jones-Conte, Headquarters, Department of the Army, Office of the Assistant Chief of Staff for Installation Management, Attn: DAIM-MD, Room 1E677, 600 Army Pentagon, Washington, DC 20310-0600; (703) 692-9223; GSA: Mr. Brian K. Polly, Assistant Commissioner, General Services Administration, Office of Property Disposal, 18th and F Streets, NW., Washington, DC 20405; (202) 501-0052; Interior: Ms. Linda Tribby, Acquisition & Property Management, Department of the Interior, 1849 C Street, NW., MS5512, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: September 5, 2002.
John D. Garrity,
Director, Office of Special Needs Assistance Programs.

TITLE V, FEDERAL SURPLUS PROPERTY PROGRAM, FEDERAL REGISTER REPORT FOR 9/13/02

Suitable/Available Properties

Buildings (by State)

Alabama

Bldg. 08402

Fort McClellan

Anniston Co: Calhoun AL 36205-

Landholding Agency: Army

Property Number: 21200230040

Status: Underutilized

Comment: 800 sq. ft., needs major rehab, presence of lead paint, most recent use—storage, off-site use only

Arkansas

Social Sec. Administration

225 Hazel Street

Hot Springs Co: Garland AR 71901-

Landholding Agency: GSA

Property Number: 54200210016

Status: Surplus

Comment: 7437 sq. ft. office building

GSA Number: 7-G-AR-0560

Blytheville Fed. Ofc. Bldg.

120 North Broadway

Blytheville Co: Mississippi AR 72316-

Landholding Agency: GSA

Property Number: 54200210017

Status: Surplus

Comment: 7921 sq. ft. office building, good condition

GSA Number: 7-G-AR-0559

California

Bldg. 371

Naval Warfare Systems Center

San Diego Co: CA 92152-

Landholding Agency: Navy

Property Number: 77200020080

Status: Unutilized

Comment: 29,800 sq. ft., needs rehab, presence of asbestos/lead paint, off-site use only

Bldg. 402

Naval Warfare Systems Center

San Diego Co: CA 92152-

Landholding Agency: Navy

Property Number: 77200020081

Status: Unutilized

Comment: presence of lead paint, most recent use—storage, off-site use only

Bldg. 417

Naval Warfare Systems Center

San Diego Co: CA 92152-

Landholding Agency: Navy

Property Number: 77200020082

Status: Unutilized

Comment: 110 TR, needs rehab, presence of asbestos/lead paint, off-site use only

Bldg. 418

Naval Warfare Systems Center

San Diego Co: CA 92152-

Landholding Agency: Navy

Property Number: 77200020083

Status: Unutilized

Comment: 288 sq. ft., presence of lead paint, most recent use—storage, off-site use only

Bldg. 426

Naval Warfare Systems Center

San Diego Co: CA 92152-

Landholding Agency: Navy

Property Number: 77200020084

Status: Unutilized

Comment: presence of asbestos/lead paint, off-site use only

Bldg. 434

Naval Warfare Systems Center

San Diego Co: CA 92152-

Landholding Agency: Navy

Property Number: 77200020085

Status: Unutilized

Comment: 11,440 sq. ft., needs rehab, presence of asbestos/lead paint, off-site use only

Bldg. 210

Naval Warfare Assessment Station

Corona Co: CA 91718-5000

Landholding Agency: Navy

Property Number: 77200020086

Status: Unutilized

Comment: 17,708 sq. ft., needs rehab, presence of asbestos/lead paint, most recent use—police station, off-site use only

Bldg. 541

Naval Warfare Assessment Station

Corona Co: CA 91718-5000

Landholding Agency: Navy

Property Number: 77200020087

Status: Unutilized

Comment: 3857 sq. ft., needs rehab, presence of asbestos/lead paint, most recent use—lab, off-site use only

Bldg. 804

Naval Warfare Assessment Station

Corona Co: CA 91718-5000

Landholding Agency: Navy

Property Number: 77200020088

Status: Unutilized

Comment: 3119 sq. ft., needs rehab, presence of asbestos/lead paint, most recent use—admin., off-site use only

Bldg. 805

Naval Warfare Assessment Station

Corona Co: CA 91718-5000

Landholding Agency: Navy

Property Number: 77200020089

Status: Unutilized

Comment: 3732 sq ft., needs rehab, presence of asbestos/lead paint, most recent use—storage, off-site use only

Bldg. 806

Naval Warfare Assessment Station

Corona Co: CA 91718-5000

Landholding Agency: Navy

Property Number: 77200020090

Status: Unutilized

Comment: 3110 sq. ft., needs rehab, presence of asbestos/lead paint, most recent use—office, off-site use only

Bldg. 807

Naval Warfare Assessment Station

Corona Co: CA 91718-5000

Landholding Agency: Navy

Property Number: 77200020091

Status: Unutilized

Comment: 3110 sq. ft., needs rehab, presence of asbestos/lead paint, most recent use—office, off-site use only

Bldgs. 23027, 23025

Marine Corps Air Station

Miramar Co: San Diego CA 92132-

Landholding Agency: Navy

Property Number: 77200040023

Status: Unutilized

Comment: 400 sq. ft., metal siding, most recent use—loading facility, off-site use only

Bldg. 01290

Naval Air Weapons Station

China Lake Co: CA 93555-6100

Landholding Agency: Navy

Property Number: 77200120090

Status: Excess

Comment: 460 sq. ft., most recent use—garage, off-site use only

Bldg. 02453

Naval Air Weapons Station

China Lake Co: CA 93555-6001

Landholding Agency: Navy

Property Number: 77200120110

Status: Excess

Comment: 48 sq. ft., most recent use—storage locker, off-site use only

Bldg. 32027

Naval Air Weapons Station

China Lake Co: CA 93555-6001

Landholding Agency: Navy

Property Number: 77200120111

Status: Excess

Comment: 331 sq. ft., off-site use only

Bldg. 32534

Naval Air Weapons Station

China Lake Co: CA 93555-6001

Landholding Agency: Navy

Property Number: 77200120112

Status: Excess

Comment: 2252 sq. ft., most recent use—repair shop, off-site use only

Bldg. 32537

Naval Air Weapons Station

China Lake Co: CA 93444-6001

Landholding Agency: Navy

Property Number: 77200120113

Status: Excess

Comment: most recent use—instrument bldg., off-site use only

Connecticut

Bldgs. 2, 108, 440

Naval Submarine Base

Groton Co: New London CT 06349-

Landholding Agency: Navy

Property Number: 77200210095

Status: Unutilized

Comment: various sq. ft., need rehab, presence of asbestos/lead paint, most recent use—office/store/club, off-site use only

Georgia

Bldg. T0130

Fort Stewart

Hinesville Co: Liberty GA 31314-5136

Landholding Agency: Army

Property Number: 21200230041

Status: Excess

Comment: 10,813 sq. ft., off-site use only

Bldg. T0157

Fort Stewart

Hinesville Co: Liberty GA 31314-5136

Landholding Agency: Army

Property Number: 21200230042

Status: Excess

Comment: 1440 sq. ft., off-site use only

Bldg. T0251

Fort Stewart

Hinesville Co: Liberty GA 31314-5136

Landholding Agency: Army

Property Number: 21200230043

Status: Excess

Comment: 27,254 sq. ft., off-site use only

Bldgs. T291, T292

Fort Stewart

Hinesville Co: Liberty GA 31314-5136

Landholding Agency: Army

Property Number: 21200230044

Status: Excess

Comment: 5220 sq. ft. each, off-site use only

Bldg. T0295

Fort Stewart

Hinesville Co: Liberty GA 31314-5136

Landholding Agency: Army

Property Number: 21200230045

Status: Excess

Comment: 5220 sq. ft., off-site use only

Bldg. T0470

Fort Stewart

Hinesville Co: Liberty GA 31314-5136

Landholding Agency: Army

Property Number: 21200230046

Status: Excess

Comment: 27,254 sq. ft., off-site use only

Bldg. T1191

Fort Stewart

Hinesville Co: Liberty GA 31314-5136

Landholding Agency: Army

Property Number: 21200230047

Status: Excess

Comment: 9386 sq. ft., off-site use only

Bldg. T1192

Fort Stewart

Hinesville Co: Liberty GA 31314-5136

Landholding Agency: Army

Property Number: 21200230048

Status: Excess

Comment: 3992 sq. ft., off-site use only

Guam

Bldgs. 47, 48

Naval Forces, Marianas

Dededo Co: Barrigada GU 96540-

Landholding Agency: Navy

Property Number: 77200210096

Status: Unutilized

Comment: 144 sq. ft. each, no utilities, most recent use—storage

Bldgs. 81, 82

Naval Forces, Marianas

Dededo Co: Barrigada GU 96540-

Landholding Agency: Navy

Property Number: 77200210097

Status: Unutilized

Comment: 377 sq. ft. each, no utilities, most recent use—storage

Bldg. 449

Naval Forces, Marianas

Dededo Co: GU 96540-

Landholding Agency: Navy

Property Number: 77200210098

Status: Unutilized

Comment: 500 sq. ft., no utilities, most recent use—small arms

Bldg. 732

Naval Forces, Marianas

Marianas Co: GU 96540-

Landholding Agency: Navy

Property Number: 77200210099

Status: Unutilized

Comment: 7360 sq. ft., no utilities, most recent use—warehouse

Hawaii

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Illinois

Milo Comm. Tower Site

350 N. Rt. 8

Milo Co: Bureau IL 56142-

Landholding Agency: GSA

Property Number: 54200020018

Status: Excess

Comment: 120 sq. ft. cinder block bldg.

GSA Number: 1-D-IL-795

Kansas

Bldg. P-469

Fort Leavenworth

Leavenworth Co: KS 66027-

Landholding Agency: Army

Property Number: 21200210031

Status: Unutilized

Comment: 625 sq. ft., most recent use—storage, off-site use only

Bldg. S-471

Fort Leavenworth

Leavenworth Co: KS 66027-

Landholding Agency: Army

Property Number: 21200210032

Status: Unutilized

Comment: 4535 sq. ft., most recent use—repair shop, off-site use only

Bldg. P-485

Fort Leavenworth

Leavenworth Co: KS 66027-

Landholding Agency: Army

Property Number: 21200210033

Status: Unutilized

Comment: 2006 sq. ft., most recent use—instructional, off-site use only

Bldg. S-486

Fort Leavenworth

Leavenworth Co: KS 66027-

Landholding Agency: Army

Property Number: 21200210034

Status: Unutilized

Comment: 960 sq. ft., most recent use—instructional, off-site use only

Bldg. S-496

Fort Leavenworth

Leavenworth Co: KS 66027-

Landholding Agency: Army

Property Number: 21200210035

Status: Unutilized

Comment: 7134 sq. ft., most recent use—vocational, off-site use only

Bldg. 00493

Fort Leavenworth

Ft. Leavenworth Co: KS 66027-

Landholding Agency: Army

Property Number: 21200230049

Status: Unutilized

Comment: 1020 sq. ft., most recent use—storage, off-site use only

Bldg. 00498

Fort Leavenworth

Ft. Leavenworth Co: KS 66027-

Landholding Agency: Army

Property Number: 21200230050

Status: Unutilized

Comment: 208 sq. ft., most recent use—shed, off-site use only

Louisiana

Nettles Army Rsv Ctr

1815 N. Bolton Ave.

Alexandria Co: Rapides Parish LA 71303-

Landholding Agency: GSA

Property Number: 54200210007

Status: Surplus

Comment: 12,595 sq. ft. main bldg. & 2640 sq. ft. shop on 3.8 acres, subject to existing easements

GSA Number: 7-D-LA-0565

Maryland

Bldg. 2050A

Fort George G. Meade

Fort Meade Co: Anne Arundel MD 20755-

Landholding Agency: Army

Property Number: 21200230051

Status: Unutilized

Comment: 200 sq. ft., needs rehab, most recent use—storage, off-site use only

Bldgs. 2211, 2213

Fort George G. Meade

Fort Meade Co: Anne Arundel MD 29755-

Landholding Agency: Army

Property Number: 21200230053

Status: Unutilized

Comment: 6936 & 8386 sq ft., needs rehab, possible asbestos/lead paint, most recent use—maint. shop, off-site use only

Bldg. 2214

Fort George G. Meade

Fort Meade Co: Anne Arundel MD 20755-

Landholding Agency: Army

Property Number: 21200230054

Status: Unutilized

Comment: 7740 sq. ft., needs rehab, possible asbestos/lead paint, most recent use—storage, off-site use only

Bldg. 2217

Fort George G. Meade

Fort Meade Co: Anne Arundel MD 20755-

Landholding Agency: Army

Property Number: 21200230055

Status: Unutilized

Comment: 7710 sq. ft., needs rehab, possible asbestos/lead paint, most recent use—admin/warehouse, off-site use only

Bldg. 2253

Fort George G. Meade

Fort Meade Co: Anne Arundel MD 20755-

Landholding Agency: Army

Property Number: 21200230056

Status: Unutilized

Comment: 18,912 sq. ft., needs rehab, possible asbestos/lead paint, most recent use—vehicle maint. shop, off-site use only

Bldg. 2275

Fort George G. Meade

Fort Meade Co: Anne Arundel MD 20755-

Landholding Agency: Army

Property Number: 21200230057

Status: Unutilized

Comment: 10,080 sq. ft., needs rehab, possible asbestos/lead paint, most recent use—warehouse, off-site use only

Bldg. 2276

Fort George G. Meade

Fort Meade Co: Anne Arundel MD 20755-

Landholding Agency: Army

Property Number: 21200230058

Status: Unutilized

Comment: 10,080 sq. ft., needs rehab, possible asbestos/lead paint, most recent use—warehouse, off-site use only

Bldg. 8880

Fort George G. Meade

Fort Meade Co: Anne Arundel MD 20755-

Landholding Agency: Army

Property Number: 21200230060

Status: Unutilized

Comment: 2500 sq. ft., needs rehab, most recent use—storehouse/maint. shop, off-site use only

Bldg. 139

Naval Surface Warfare Center

Carderock Division

West Bethesda Co: Montgomery MD 20817-5700

Landholding Agency: Navy

Property Number: 77200010032

Status: Unutilized

Comment: 4950 sq. ft., possible asbestos/lead paint, most recent use—wind tunnel, off-site use only

Bldg. 104

Naval Surface Warfare

Carderock Division

West Bethesda Co: Montgomery MD 20817-5700

Landholding Agency: Navy

Property Number: 77200120079

Status: Unutilized

Comment: 8050 sq. ft., most recent use—garage, off-site use only

Bldg. 109

Naval Surface Warfare

West Bethesda Co: Montgomery MD 20817-5000

Landholding Agency: Navy

Property Number: 77200120080

Status: Unutilized

Comment: 9650 sq. ft., needs rehab, possible asbestos/lead paint, most recent use—storage, off-site use only

Bldg. 110

Naval Surface Warfare

West Bethesda Co: Montgomery MD 20817-5700

Landholding Agency: Navy

Property Number: 77200120081

Status: Unutilized

Comment: 10,750 sq. ft., needs rehab, presence of asbestos/lead paint, most recent use—storage, off-site use only

Bldg. 111

Naval Surface Warfare

West Bethesda Co: Montgomery MD 20817-5700

Landholding Agency: Navy

Property Number: 77200120082

Status: Unutilized

Comment: 4220 sq. ft., most recent use—office, off-site use only

Bldg. 112

Naval Surface Warfare

West Bethesda Co: Montgomery MD 20817-5700

Landholding Agency: Navy

Property Number: 77200120083

Status: Unutilized

Comment: 2440 sq. ft., most recent use—printing bldg., off-site use only

Bldg. 113

Naval Surface Warfare

West Bethesda Co: Montgomery MD 20817-5700

Landholding Agency: Navy

Property Number: 77200120084

Status: Unutilized

Comment: 2440 sq. ft., most recent use—lab, off-site use only

Bldg. 143

Naval Surface Warfare

West Bethesda Co: MD 20817-5700

Landholding Agency: Navy

Property Number: 77200120085

Status: Unutilized

Comment: 16,950 sq. ft., needs rehab, presence of asbestos/lead paint, most recent use—storage, off-site use only

Bldg. 152

Naval Surface Warfare

West Bethesda Co: Montgomery MD 20817-5700

Landholding Agency: Navy

Property Number: 77200120086

Status: Unutilized

Comment: 1400 sq. ft., most recent use—fire house annex, off-site use only

Bldg. 159

Naval Surface Warfare

West Bethesda Co: Montgomery MD 20817-5700

Landholding Agency: Navy

Property Number: 77200120087

Status: Unutilized

Comment: 605 sq. ft., needs rehab, presence of asbestos/lead paint, most recent use—hazardous waste storage, off-site use only

Bldg. 187

Naval Surface Warfare

West Bethesda Co: Montgomery MD 20817-5700

Landholding Agency: Navy

Property Number: 77200120088

Status: Unutilized

Comment: 768 sq. ft., most recent use—pump house, off-site use only

Bldg. 117

Naval Surface Warfare Center

Carderock Division

West Bethesda Co: Montgomery MD 20817-5700

Landholding Agency: Navy

Property Number: 77200120102

Status: Unutilized

Comment: 400 sq. ft., needs rehab, most recent use—storage, off-site use only

Bldg. 196

Naval Surface Warfare Center

Carderock Division

West Bethesda Co: Montgomery MD 20817-5700

Landholding Agency: Navy

Property Number: 77200120106

Status: Unutilized

Comment: 456 sq. ft., needs rehab, most recent use—destructor bldg., off-site use only

Massachusetts

Aircraft Hanger

Hanscom Air Force Base

Concord Co: MA

Landholding Agency: GSA

Property Number: 54200140007

Status: Excess

Comment: 40,000 sq. ft., off-site use only, relocating property may not be feasible

GSA Number: 1-D-MA-0857679

Michigan

Pontiac Federal Bldg.

142 Auburn Ave.

Pontiac Co: Oakland MI

Landholding Agency: GSA

Property Number: 54200220005

Status: Surplus

Comment: 11,910 sq. ft., most recent use—office

GSA Number: 1-G-MI-809

Detroit Job Corp Center

10401 E. Jefferson 1265 St. Clair

Detroit Co: Wayne MI

Landholding Agency: GSA

Property Number: 54200230012

Status: Surplus

Comment: Parcel One = 80,590 sq. ft. bldg., needs repair, presence of asbestos; Parcel Two = 5140 sq. ft. bldg.

GSA Number: 2-L-MI-757

New Hampshire

Bldg. 239

Portsmouth Naval Shipyard

Portsmouth Co: NH 03804-5000

Landholding Agency: Navy

Property Number: 77200030019

Status: Excess

Comment: 897 sq. ft., presence of asbestos/lead paint, off-site use only

New Mexico

Bldg. 21538

White Sands Missile Range

Dona Ana Co: NM 88002—

Landholding Agency: Army

Property Number: 21200230061

Status: Excess

Comment: 168 sq. ft., presence of asbestos, poor condition, most recent use—general purpose, off-site use only

Bldg. 34198

White Sands Missile Range

Dona Ana Co: NM 88002—

Landholding Agency: Army

Property Number: 21200230062

Status: Excess

Comment: 107 sq. ft., most recent use—security, off-site use only

New York

Binghampton Depot

Nolans Road

Binghampton Co: NY 00000—

Landholding Agency: GSA

Property Number: 54199910015

Status: Excess

Comment: 45,977 sq. ft., needs repair, presence of asbestos, most recent use—office

GSA Number: 1-G-NY-760A

USCG Throg's Neck Housing

Ft. Schuyler Co: Bronx NY

Landholding Agency: GSA

Property Number: 54200210009

Status: Excess

Comment: 4000 sq. ft. w/garage, presence of lead paint, possible asbestos, most recent use—residential, potential for flooding

GSA Number: 1-U-NY-883

Ava Test Annex

11518 Webster Hill Road

Boonville Co: NY

Landholding Agency: GSA

Property Number: 54200220007

Status: Excess

Comment: 11,000 sq. ft. bldg. on 297 acres, needs repair, presence of asbestos/lead paint, portion of land consists of road easements and wetlands

GSA Number: 1-D-NY-0875

Pennsylvania

Bldg. 00328

Carlisle Barracks

Carlisle Co: Cumberland PA 17013—

Landholding Agency: Army

Property Number: 21200230063

Status: Unutilized

Comment: 392 sq. ft., most recent use—office, off-site use only

Bldg. 00610

Carlisle Barracks

Carlisle Co: Cumberland PA 17013—

Landholding Agency: Army

Property Number: 21200230064

Status: Unutilized

Comment: 2040 sq. ft., most recent use—admin., off-site use only

Bldg. 00611

Carlisle Barracks

Carlisle Co: Cumberland PA 17013—

Landholding Agency: Army

Property Number: 21200230065

Status: Unutilized

Comment: 182 sq. ft., most recent use—heat plant/storage, off-site use only

Bldg. 00631

Carlisle Barracks

Carlisle Co: Cumberland PA 17013—

Landholding Agency: Army

Property Number: 21200230066

Status: Unutilized

Comment: 351 sq. ft., most recent use—storage, off-site use only

Bldg. 00633

Carlisle Barracks

Carlisle Co: Cumberland PA 17013—

Landholding Agency: Army

Property Number: 21200230067

Status: Unutilized

Comment: 480 sq. ft., most recent use—storage, off-site use only

Bldg. 00636

Carlisle Barracks

Carlisle Co: Cumberland PA 17013—

Landholding Agency: Army

Property Number: 21200230068

Status: Unutilized

Comment: 480 sq. ft., most recent use—storage, off-site use only

House/Storage

Cowanesque Lake Project

Bliss Road

Lawrenceville Co: Tioga PA 16929—

Landholding Agency: GSA

Property Number: 54200220011

Status: Excess

Comment: 1653/2640 sq. ft., no public water or sewer, needs rehab

GSA Number: 4-D-PA-791

Bldg. 216

Naval Support Activity

Mechanicsburg Co: Cumberland PA 17055-0788

Landholding Agency: Navy

Property Number: 77200220008

Status: Excess

Comment: 121,604 sq. ft., needs rehab, presence of asbestos/lead paint, most recent use—office, off-site use only

Bldg. 504B

Naval Support Activity

Mechanicsburg Co: Cumberland PA 17055-0788

Landholding Agency: Navy

Property Number: 77200220009

Status: Excess

Comment: 4824 sq. ft., needs rehab, presence of asbestos/lead paint, most recent use—training, off-site use only

Bldg. 608D

Naval Support Activity

Mechanicsburg Co: Cumberland PA 17055-0788

Landholding Agency: Navy

Property Number: 77200220010

Status: Excess

Comment: 8400 sq. ft., needs rehab, presence of asbestos/lead paint, most recent use—storage, off-site use only

Bldg. 609B

Naval Support Activity

Mechanicsburg Co: Cumberland PA 17055-0788

Landholding Agency: Navy

Property Number: 77200220011

Status: Excess

Comment: 2100 sq. ft., needs rehab, presence of asbestos/lead paint, most recent use—storage, off-site use only

Bldg. 611

Naval Support Activity

Mechanicsburg Co: Cumberland PA 17055-0788

Landholding Agency: Navy

Property Number: 77200220012

Status: Excess

Comment: 425 sq. ft. concrete, presence of asbestos/lead paint, most recent use—storage, off-site use only

Bldg. 616

Naval Support Activity

Mechanicsburg Co: Cumberland PA 17055-0788

Landholding Agency: Navy

Property Number: 77200220013

Status: Excess

Comment: 216 sq .ft., needs rehab, presence of asbestos/lead paint, most recent use—storage, off-site use only

Rhode Island

Bldg. 8

Naval Ambulatory Care

Newport Co: RI 02841—

Landholding Agency: Navy

Property Number: 77200220017

Status: Unutilized

Comment: 2800 sq. ft., poor condition, possible asbestos/lead paint, most recent use—storage, meets Nat. Register criterion, off-site use only

Bldg. 30

Naval Ambulatory Care

Newport Co: RI 02841—

Landholding Agency: Navy

Property Number: 77200220018

Status: Unutilized

Comment: 150 sq. ft., poor condition, most recent use—switch house, off-site use only

Bldg. 46

Naval Ambulatory Care

Newport Co: RI 02841—

Landholding Agency: Navy

Property Number: 77200220019

Status: Unutilized

Comment: 3690 sq. ft., poor condition, possible asbestos/lead paint, most recent use—office, off-site use only

Bldg. 53

Naval Ambulatory Care

Newport Co: RI 02841—

Landholding Agency: Navy

Property Number: 77200220020

Status: Unutilized

Comment: 2691 sq. ft., poor condition, possible asbestos/lead paint, most recent use—garage/office, off-site use only

Bldg. 55

Naval Ambulatory Care

Newport Co: RI 02841—

Landholding Agency: Navy

Property Number: 77200220021

Status: Unutilized

Comment: 135 sq. ft., poor condition, most recent use—storage, off-site use only

South Dakota

Alpha Launch Control Fac.

NE of Ellsworth AFB

Quinn Co: Pennington SD 57779—

Landholding Agency: GSA

Property Number: 54200220009

Status: Surplus

Comment: 2 equipment bldgs. consisting of 6307 sq. ft., presence of asbestos/lead paint, deed restrictions

GSA Number: 7-D-SD-521-2A

Tennessee

Courthouse/Fed. Bldg.

101 W. Summer Street

Greeneville Co: Greene TN 37743—

Landholding Agency: GSA

Property Number: 54200210027

Status: Excess

Comment: 17,241 sq. ft. office bldg. w/25 parking spaces, presence of asbestos, subject to Historic Preservation Covenants

GSA Number: 4-G-TN-0652

Federal Building

309 N. Church Street

Dyersburg Co: Dyers TN 38024—

Landholding Agency: GSA

Property Number: 54200220008

Status: Excess

Comment: 24,325 sq. ft., most recent use—office, approx. 65% of bldg. will remain occupied by the U.S. Post Office and U.S. Fish & Wildlife

GSA Number: 4-G-TN-0655

Federal Bldg.

118 East Locust Street

Lafayette Co: Macon TN 37083—

Landholding Agency: GSA

Property Number: 54200220010

Status: Excess

Comment: 12,605 sq. ft., most recent use—office, portion occupied by U.S. Postal Service

GSA Number: 4-G-TN-656

Tract 01-183

Stones River Natl Battlefield

3506 Old Nashville Hwy

Murfreesboro Co: Rutherford TN 37129—

Landholding Agency: Interior

Property Number: 61200230021

Status: Excess

Comment: 1561 sq. ft., most recent use—residential, off-site use only

Texas

Bldg. P1711

Fort Sam Houston

San Antonio Co: Bexar TX 78234—

Landholding Agency: Army

Property Number: 21200230069

Status: Excess

Comment: 600 sq. ft., off-site use only

Virginia

Federal Building

1426 N. Augusta St.

Staunton Co: Augusta VA 24401-2401

Landholding Agency: GSA

Property Number: 54200210022

Status: Surplus

Comment: 4084 sq. ft. office building

GSA Number: 4-G-VA-0728

Structure SP-129

Naval Station

Norfolk Co: VA 23511—

Landholding Agency: Navy

Property Number: 77200110136

Status: Excess

Comment: 3564 sq. ft., presence of asbestos/lead, most recent use—office, off-site use only

Bldg. 106(G)

Naval Station

Lafayette River Annex

Norfolk Co: VA

Landholding Agency: Navy

Property Number: 77200220046

Status: Excess

Comment: 2767 sq. ft. garage, most recent use—storage, off-site use only

Bldg. CEP-184

Naval Station

Norfolk Co: VA

Landholding Agency: Navy

Property Number: 77200220047

Status: Excess

Comment: 200 sq. ft., most recent use—gate/sentry house, off-site use only

Land (by State)

California

Portion of Land

Naval Base, Point Loma

Murphy Canyon

San Diego Co: CA 92124—

Landholding Agency: Navy

Property Number: 77200140012

Status: Unutilized

Comment: 24,350 sq. ft. of parking lot, adjacent to environmentally sensitive area

Hawaii

Parcels 9, 2, 4

Loran Station Upolu Point

Hawi Co: Hawaii HI

Location: Resubmitted to Federal Register for publication

Landholding Agency: GSA

Property Number: 54200220002

Status: Surplus

Comment: parcel 9 = 6.242 acres/encumbered by utility and road access easements, parcel 2 = 1.007 acres; parcel 4 = 5.239 acres

GSA Number: 9-U-HI-0572

Missouri

Improved Land

St. Louis Army Ammunition Plant 4800 Goodfellow Blvd.

St. Louis Co: MO 63120-1798

Landholding Agency: GSA

Property Number: 54200110007

Status: Surplus

Comment: 21 acres w/2 large bldgs. and numerous small bldgs. situated on 13 acres, 5 acres = parking lot and streets, presence of asbestos/lead paint, clean-up required to state regulator standards

GSA Number: 000000

New Jersey

Belle Mead Depot

Rt. 206/Mountain View Rd.

Hillsborough Co: Somerset NJ 08502-

Landholding Agency: GSA

Property Number: 54200210014

Status: Excess

Comment: approx. 400 acres, property will not be subdivided, contaminants of concern present, lease restriction on 7 acres, 44 miles of railroad track, remediation activity, potential restriction of property f

GSA Number: 1-G-NJ-0642

0.27 acres

209 Bay Road

Ocean City Co: NJ 08226-

Landholding Agency: GSA

Property Number: 54200210023

Status: Excess

Comment: environmental conditions exist which impact occupany of property, endangered species within one mile

GSA Number: 1-U-NJ-645

North Carolina

4.939 acres

Staton Road

Greenville Co: Pitt NC

Landholding Agency: GSA

Property Number: 54200210002

Status: Surplus

Comment: undeveloped land

GSA Number: 4-D-NC-738

Ohio

Licking County Tower Site

Summit & Haven Corner Rds.

Pataskala Co: Licking OH 43062-

Landholding Agency: GSA

Property Number: 54200020021

Status: Excess

Comment: Parcel 100 = 3.67 acres, Parcel 100E = 0.57 acres

GSA Number: 1-W-OH-813

Puerto Rico

Bahia Rear Range Light

Ocean Drive

Catano Co: PR 00632-

Landholding Agency: GSA

Property Number: 54199940003

Status: Excess

Comment: 0.167 w/skeletal tower, fenced, aid to navigation

GSA Number: 1-T-PR-508

Virginia

Land

Marine Corps Base

Quantico Co: VA 22134-

Landholding Agency: Navy

Property Number: 77200040034

Status: Unutilized

Comment: 4900 sq. ft. open space

Washington

Richland Rail R/W

East of 1335 Lee Blvd.

Richland Co: Benton WA

Landholding Agency: GSA

Property Number: 54200210005

Status: Excess

Comment: 0.59 acre, long narrow curved strip, most recent use—gravel rail bed/parking

GSA Number: 9-B-WA-1197

Suitable/Unavailable Properties

Buildings (by State)

Alabama

Fed. Bldg./Courthouse

1710 Alabama Ave.

Jasper Co: AL 35502-

Landholding Agency: GSA

Property Number: 54200220001

Status: Excess

Comment: approx. 15,792 sq. ft., approx. 38% of bldg. leased, most recent use—offices

GSA Number: 4-G-AL-771

California

Merced Federal Bldg.

415 W. 18th St.

Merced Co: CA 95340-

Landholding Agency: GSA

Property Number: 54200220012

Status: Surplus

Comment: 15,492 sq. ft., presence of asbestos/lead paint, Historic Preservation Covenant will be included in deed, relocation issue

GSA Number: 9-G-CA-1567

Florida

Lexington Terrace Housing

Portion of NAS Pensacola

Old Corry Field Rd.

Pensacola Co: Escambia FL 32508-

Landholding Agency: GSA

Property Number: 54200130009

Status: Surplus

Comment: 198 individual housing units, approximately 400 to 800 sq. ft. per unit, presence of lead base paint, potential electric power

GSA Number: 4-N-FL-0735

Georgia

U.S. Post Office/Courthouse

337 W. Broad St.

Albany Co: Dougherty GA 31702-

Landholding Agency: GSA

Property Number: 54200120002

Status: Excess

Comment: 4800 sq. ft., presence of asbestos/lead paint, historic preservation covenants, most recent use—Fed. ofcs/P.O./Courthouse

GSA Number: 4-G-GA-866A

Illinois

Radar Communication Link

½ mi east of 116th St.

Co: Will IL

Landholding Agency: GSA

Property Number: 54199820013

Status: Excess

Comment: 297 sq. ft. concrete block bldg. with radar tower antenna, possible lead based paint, most recent use—air traffic control

GSA Number : 2-U-IL-696

LaSalle Comm. Tower Site

1600 NE 8th St.

Richland Co: LaSalle IL 61370-

Landholding Agency: GSA

Property Number: 54200020019

Status: Excess

Comment: 120 sq. ft. cinder block bldg. and a 300′ tower

GSA Number: 1-D-IL-724

Maryland

Bldg. 2123

Fort George G. Meade

Fort Meade Co: Anne Arundel MD 20755-

Landholding Agency: Army

Property Number: 21200230052

Status: Unutilized

Comment: 2220 sq. ft., needs rehab, possible asbestos/lead paint, most recent use—vehicle maint. shop, off-site use only

Bldg. 2282C

Fort George G. Meade

Fort Meade Co: Anne Arundel MD 20755-

Landholding Agency: Army

Property Number: 21200230059

Status: Unutilized

Comment: 46 sq. ft., needs rehab, most recent use—sentry tower, off-site use only

29 Bldgs.

Walter Reed Army Medical Center

Forest Glen Annex, Linden Lane

Silver Spring Co: Montgomery MD 20910-1246

Location: 24 bldgs. are in poor condition, presence of asbestos/lead paint, most recent use—hospital annex, lab, office

Landholding Agency: GSA

Property Number: 54200130012

Status: Excess

Comment: Historic Preservation Covenants will impact reuse, property will not be parcelized for disposal, high cost associated w/maintenance, estimated cost to renovate $17 million

GSA Number: 4-D-MD-558-B

Minnesota

GAP Filler Radar Site

St. Paul Co: Rice MN 55101-

Landholding Agency: GSA

Property Number: 54199910009

Status: Excess

Comment: 1266 sq. ft., concrete block, presence of asbestos/lead paint, most recent use—storage, zoning requirements, preparations for a Phase I study underway, possible underground storage tank

GSA Number: 1-GR(1)-MN-475

MG Clement Trott Mem. USARC

Walker Co: Cass MN 56484-

Landholding Agency: GSA

Property Number: 54199930003

Status: Excess

Comment: 4320 sq. ft. training center and 1316 sq. ft. vehicle maintenance shop, presence of environmental conditions

GSA Number: 1-D-MN-575

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

North Carolina

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number: 4-D-NC-593

Vehicle Maint. Facility

310 New Bern Ave.

Raleigh Co: Wake NC 27601-

Landholding Agency: GSA

Property Number: 54200020012

Status: Excess

Comment: 10,455 sq. ft., most recent use—maintenance garage

GSA Number: NC076AB

South Carolina

Sumter Federal Bldg.

1015 Main Street

Sumter Co: SC 29150-

Landholding Agency: GSA

Property Number: 54200220004

Status: Excess

Comment: 11,908 sq .ft., good condition, possible lead paint, most recent use—office, historic preservation covenants

GSA Number: 4-G-SC-602

Tennessee

Bldgs. 01551, 01552

Fort Campbell

Ft. Campbell Co: Montgomery TN 42223-

Landholding Agency: Army

Property Number: 21200230076

Status: Unutilized

Comment: 2052 sq. ft.

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 144-2,420 sq. ft., most recent use—storage/rail weighing facilities/dock, potential use restrictions, property was published in error as available on 2/11/00

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Naval Hospital

5720 Integrity Drive

Millington Co: Shelby TN 38054-

Location: Bldgs. 98, 100, 103, 105, 111, 114, 116, 117, 118

Landholding Agency: GSA

Property Number: 54200020005

Status: Excess

Comment: 9 bldgs., various sq. ft., need major rehab

GSA Number: 4-N-TN-648

Virginia

Naval Medical Clinic

6500 Hampton Blvd.

Norfolk Co: Norfolk VA 23508-

Landholding Agency: Navy

Property Number: 77199010109

Status: Unutilized

Comment: 3665 sq ft., 1 story, possible asbestos, most recent use—laundry.

Wisconsin

Wausau Federal Building

317 First Street

Wausau Co: Marathon WI 54401-

Landholding Agency: GSA

Property Number: 54199820016

Status: Excess

Comment: 30,500 sq. ft., presence of asbestos, eligible for listing on the Natl Register of Historic Places, most recent use—office

GSA Number: 1-G-WI-593

Land (by State)

Florida

Lakeland Federal Property

N. Florida Ave. & Five Oaks St.

Lakeland Co: Polk FL 33806-

Landholding Agency: GSA

Property Number: 54200140001

Status: Surplus

Comment: 2.46 acres, former commercial use, environmental remediation in process

GSA Number: 4-G-FL-1092

New Jersey

0.27 acres

lots 3103, 3106

209 Bay Road

Ocean City Co: Cape May NJ 08226-

Landholding Agency: GSA

Property Number: 54200210003

Status: Surplus

Comment: undeveloped land, endangered species documented

GSA Number: 1-U-NJ-645

Tennessee

1500 acres

Volunteer Army Ammunition Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Virginia

Naval Base

Norfolk Co: Norfolk VA 23508-

Location: Northeast corner of base, near Willoughby housing area.

Landholding Agency: Navy

Property Number: 77199010156

Status: Unutilized

Comment: 60 acres; most recent use—sandpit; secured area with alternate access.

2.6 acres

Naval Station

Norfolk Co: VA 23508-1273

Landholding Agency: Navy

Property Number: 77200120131

Status: Underutilized

Comment: most recent use—brush/debris storage

1.15 acres

Naval Amphibious Base Little Creek

Norfolk Co: VA 23508

Landholding Agency: Navy

Property Number: 77200120132

Status: Unutilized

Comment: most recent use—open space

Unsuitable Properties

Buildings (by State)

Alabama

Sand Island Light House

Gulf of Mexico

Mobile AL

Landholding Agency: GSA

Property Number: 54199610001

Status: Excess

Reason: Inaccessible

GSA Number: 4-U-AL-763

Arizona

Bldg. 958

Marine Corps Air Station

Yuma Co: AZ 85369-

Landholding Agency: Navy

Property Number: 77200040001

Status: Excess

Reason: Extensive deterioration

Bldg. 1216

Marine Corps Air Station

Yuma Co: AZ 85369-

Landholding Agency: Navy

Property Number: 77200040002

Status: Excess

Reason: Extensive deterioration

Bldg. 676

Marine Corps Air Station

Yuma Co: AZ 85369-

Landholding Agency: Navy

Property Number: 77200040003

Status: Excess

Reason: Extensive deterioration

Bldg. 321

Marine Corps Air Station

Yuma Co: AZ 85369-

Landholding Agency: Navy

Property Number: 77200110001

Status: Excess

Reason: Extensive deterioration

Bldg. 322

Marine Corps Air Station

Yuma Co: AZ 85369-

Landholding Agency: Navy

Property Number: 77200110002

Status: Excess

Reason: Extensive deterioration

Bldg. 331

Marine Corps Air Station

Yuma Co: AZ 85369-

Landholding Agency: Navy

Property Number: 77200110003

Status: Excess

Reason: Extensive deterioration

Bldg. 332

Marine Corps Air Station

Yuma Co: AZ 85369-

Landholding Agency: Navy

Property Number: 77200110004

Status: Excess

Reason: Extensive deterioration

Arkansas

Antenna Tower Site

FAA

Pine Bluff Co: Jefferson AR 71601-

Landholding Agency: GSA

Property Number: 54200210015

Status: Surplus

Reason: Secured Area

GSA Number: 7-D-AR-0558-2

California

Bldgs. 20106, 20195

Naval Air Weapons Station

China Lake Co: CA 93555-

Landholding Agency: Navy

Property Number: 77199930001

Status: Excess

Reasons: Secured Area, Extensive deterioration

Bldgs. 40, 62

Naval Air Station, North Island

Imperial Beach Co: CA 91932-

Landholding Agency: Navy

Property Number: 77199930024

Status: Excess

Reason: Extensive deterioration

Bldg. 5UT4

Marine Corps Recruit Depot

San Diego Co: CA 92140-

Landholding Agency: Navy

Property Number: 77199930081

Status: Unutilized

Reason: Extensive deterioration

Bldg. 5US4

Marine Corps Recruit Depot

San Diego Co: CA 92140-

Landholding Agency: Navy

Property Number: 77199930082

Status: Unutilized

Reason: Extensive deterioration

Bldg. 127

Marine Corps Recruit Depot

San Diego Co: CA 92140-

Landholding Agency: Navy

Property Number: 77199930083

Status: Unutilized

Reason: Extensive deterioration

Bldg. 5A6

Marine Corps Recruit Depot

San Diego Co: CA 92140-

Landholding Agency: Navy

Property Number: 77199930084

Status: Unutilized

Reason: Extensive deterioration

Bldg. 5A7

Marine Corps Recruit Depot

San Diego Co: CA 92140-

Landholding Agency: Navy

Property Number: 77199930085

Status: Unutilized

Reason: Extensive deterioration

Bldg. 5A8

Marine Corps Recruit Depot

San Diego Co: CA 92140-

Landholding Agency: Navy

Property Number: 77199930086

Status: Unutilized

Reason: Extensive deterioration

Bldg. 5A9

Marine Corps Recruit Depot

San Diego Co: CA 92140-

Landholding Agency: Navy

Property Number: 77199930087

Status: Unutilized

Reason: Extensive deterioration

Bldg. 5B6

Marine Corps Recruit Depot

San Diego Co: CA 92140-

Landholding Agency: Navy

Property Number: 77199930088

Status: Unutilized

Reason: Extensive deterioration

Bldg. 5B7

Marine Corps Recruit Depot

San Diego Co: CA 92140-

Landholding Agency: Navy

Property Number: 77199930089

Status: Unutilized

Reason: Extensive deterioration

Bldg. 5B8

Marine Corps Recruit Depot

San Diego Co: CA 92140-

Landholding Agency: Navy

Property Number: 77199930090

Status: Unutilized

Reason: Extensive deterioration

Bldg. 5B9

Marine Corps Recruit Depot

San Diego Co: CA 92140-

Landholding Agency: Navy

Property Number: 77199930091

Status: Unutilized

Reason: Extensive deterioration

Bldg. 5C6

Marine Corps Recruit Depot

San Diego Co: CA 92140-

Landholding Agency: Navy

Property Number: 77199930092

Status: Unutilized

Reason: Extensive deterioration

Bldg. 5C7

Marine Corps Recruit Depot

San Diego Co: CA 92140-

Landholding Agency: Navy

Property Number: 77199930093

Status: Unutilized

Reason: Extensive deterioration

Bldg. 5C8

Marine Corps Recruit Depot

San Diego Co: CA 92140-

Landholding Agency: Navy

Property Number: 77199930094

Status: Unutilized

Reason: Extensive deterioration

Bldg. 5C9

Marine Corps Recruit Depot

San Diego Co: CA 92140-

Landholding Agency: Navy

Property Number: 77199930095

Status: Unutilized

Reason: Extensive deterioration

Bldg. 5D1

Marine Corps Recruit Depot

San Diego Co: CA 92140-

Landholding Agency: Navy

Property Number: 77199930096

Status: Unutilized

Reason: Extensive deterioration

Bldg. 5D2

Marine Corps Recruit Depot

San Diego Co: CA 92140-

Landholding Agency: Navy

Property Number: 77199930097

Status: Unutilized

Reason: Extensive deterioration

Bldg. 5D3

Marine Corps Recruit Depot

San Diego Co: CA 92140-

Landholding Agency: Navy

Property Number: 77199930098

Status: Unutilized

Reason: Extensive deterioration

Bldg. 5D4

Marine Corps Recruit Depot

San Diego Co: CA 92140-

Landholding Agency: Navy

Property Number: 77199930099

Status: Unutilized

Reason: Extensive deterioration

Bldg. 5D5

Marine Corps Recruit Depot

San Diego Co: CA 92140-

Landholding Agency: Navy

Property Number: 77199930100

Status: Unutilized

Reason: Extensive deterioration

Bldg. 432

Naval Weapons Station Seal Beach

Seal Beach Co: CA 90740-5000

Landholding Agency: Navy

Property Number: 77199930106

Status: Unutilized

Reason: Extensive deterioration

Bldg. 433

Naval Weapons Station Seal Beach

Seal Beach Co: CA 90740-5000

Landholding Agency: Navy

Property Number: 77199930107

Status: Unutilized

Reason: Extensive deterioration

Bldg. 435

Naval Weapons Station Seal Beach

Seal Beach Co: CA 90740-5000

Landholding Agency: Navy

Property Number: 77199930108

Status: Unutilized

Reason: Extensive deterioration

Bldg. 456

Naval Weapons Station Seal Beach

Seal Beach Co: CA 90740-5000

Landholding Agency: Navy

Property Number: 77199930109

Status: Unutilized

Reason: Extensive deterioration

Bldg. 921

Naval Weapons Station Seal Beach

Seal Beach Co: CA 90740-5000

Landholding Agency: Navy

Property Number: 77199930110

Status: Unutilized

Reason: Extensive deterioration

Bldg. 201

Naval Weapons Station

Fallbrook Co: CA 92028-3187

Landholding Agency: Navy

Property Number: 77199940002

Status: Unutilized

Reason: Extensive deterioration

Bldg. 205

Naval Weapons Station

Fallbrook Co: CA 92028-3187

Landholding Agency: Navy

Property Number: 77199940003

Status: Unutilized

Reason: Extensive deterioration

Bldg. 227

Naval Weapons Station

Fallbrook Co: CA 92028-3187

Landholding Agency: Navy

Property Number: 77199940004

Status: Unutilized

Reason: Extensive deterioration

Bldg. 230

Naval Weapons Station

Fallbrook Co: CA 92028-3187

Landholding Agency: Navy

Property Number: 77199940005

Status: Unutilized

Reason: Extensive deterioration

Bldg. 232

Naval Weapons Station

Fallbrook Co: CA 92028-3187

Landholding Agency: Navy

Property Number: 77199940006

Status: Unutilized

Reason: Extensive deterioration

Bldg. 337

Naval Weapons Station

Fallbrook Co: CA 92028-3187

Landholding Agency: Navy

Property Number: 77199940007

Status: Unutilized

Reason: Extensive deterioration

Bldg. 338

Naval Weapons Station

Fallbrook Co: CA 92028-3187

Landholding Agency: Navy

Property Number: 77199940008

Status: Unutilized

Reason: Extensive deterioration

Bldg. 339

Naval Weapons Station

Fallbrook Co: CA 92028-3187

Landholding Agency: Navy

Property Number: 77199940009

Status: Unutilized

Reason: Extensive deterioration

Bldg. 349

Naval Weapons Station

Fallbrook Co: CA 92028-3187

Landholding Agency: Navy

Property Number: 77199940010

Status: Unutilized

Reason: Extensive deterioration

Bldg. 362

Naval Weapons Station

Fallbrook Co: CA 92028-3187

Landholding Agency: Navy

Property Number: 77199940011

Status: Unutilized

Reason: Extensive deterioration

Bldg. 363

Naval Weapons Station

Fallbrook Co: CA 92028-3187

Landholding Agency: Navy

Property Number: 77199940012

Status: Unutilized

Reason: Extensive deterioration

Bldg. 410

Naval Weapons Station

Fallbrook Co: CA 92028-3187

Landholding Agency: Navy

Property Number: 77199940013

Status: Unutilized

Reason: Extensive deterioration

Bldg. 438

Naval Weapons Station

Fallbrook Co: CA 92028-3187

Landholding Agency: Navy

Property Number: 77199940014

Status: Unutilized

Reason: Extensive deterioration

Bldg. 17A

Marine Corps Logistics Base

Barstow Co: San Bernardino CA 92311

Landholding Agency: Navy

Property Number: 77200020001

Status: Unutilized

Reasons: Secured Area; Extensive deterioration

Bldg. 3314

Marine Corps Air Station

Miramar Co: CA 92145-

Landholding Agency: Navy

Property Number: 77200020035

Status: Excess

Reason: Extensive deterioration

Bldgs. 5157, 5158

Construction Battalion Center

Port Hueneme Co: Ventura CA 93043-4301

Landholding Agency: Navy

Property Number: 77200020045

Status: Unutilized

Reason: Secured Area

Facility 13181

Camp Pendleton

Camp Pendleton Co: CA 92055-

Landholding Agency: Navy

Property Number: 77200020046

Status: Unutilized

Reasons: Secured Area; Extensive deterioration

Facility 14220

Camp Pendleton

Camp Pendleton Co: CA 92055-

Landholding Agency: Navy

Property Number: 77200020047

Status: Unutilized

Reasons: Secured Area; Extensive deterioration

Bldg. 23025

Marine Corps Air Station

Miramar Co: CA 92132-

Landholding Agency: Navy

Property Number: 77200030001

Status: Unutilized

Reason: Secured Area

Bldg. 23027

Marine Corps Air Station

Miramar Co: CA 92132-

Landholding Agency: Navy

Property Number: 77200030002

Status: Unutilized

Reason: Secured Area

Bldg. 731

Naval Air Station

Point Mugu

Oxnard Co: Ventura CA 93043-4301

Landholding Agency: Navy

Property Number: 77200030003

Status: Excess

Reason: Extensive deterioration

Bldg. 731A

Naval Air Station

Point Mugu

Oxnard Co: Ventura CA 93043-4301

Landholding Agency: Navy

Property Number: 77200030004

Status: Excess

Reason: Extensive deterioration

Bldg. 865

Naval Air Station

Point Mugu

Oxnard Co: Ventura CA 93043-4301

Landholding Agency: Navy

Property Number: 77200030005

Status: Excess

Reason: Extensive deterioration

Bldg. 868

Naval Air Station

Point Mugu

Oxnard Co: Ventura CA 93043-4301

Landholding Agency: Navy

Property Number: 77200030006

Status: Excess

Reason: Extensive deterioration

Bldg. 474

Naval Const. Battalion Ctr

Port Hueneme

Oxnard Co: Ventura CA 93043-4301

Landholding Agency: Navy

Property Number: 77200030007

Status: Excess

Reason: Extensive deterioration

Bldg. 5021

Naval Const. Battalion Ctr

Port Hueneme

Oxnard Co: Ventura CA 93043-4301

Landholding Agency: Navy

Property Number: 77200030008

Status: Excess

Reason: Extensive deterioration

Bldg. 5022

Naval Const. Battalion Ctr

Port Hueneme

Oxnard Co: Ventura CA 93043-4301

Landholding Agency: Navy

Property Number: 77200030009

Status: Excess

Reason: Extensive deterioration

Bldg. 5025

Naval Const. Battalion Ctr

Port Hueneme

Oxnard Co: Ventura CA 93043-4301

Landholding Agency: Navy

Property Number: 77200030010

Status: Excess

Reason: Extensive deterioration

Bldg. 5113

Naval Const. Battalion Ctr

Port Hueneme

Oxnard Co: Ventura CA 93043-

Landholding Agency: Navy

Property Number: 77200030011

Status: Excess

Reason: Extensive deterioration

Bldg. 5114

Naval Const. Battalion Ctr

Port Hueneme

Oxnard Co: Ventura CA 93043-4301

Landholding Agency: Navy

Property Number: 77200030012

Status: Excess

Reason: Extensive deterioration

Bldgs. 82 & 84

Naval Air Station

Point Mugu

Oxnard Co: Ventura CA 93043-4301

Landholding Agency: Navy

Property Number: 77200030013

Status: Excess

Reason: Extensive deterioration

Bldg. 6-1

Naval Air Station

Point Mugu

Oxnard Co: Ventura CA 93043-4301

Landholding Agency: Navy

Property Number: 77200030014

Status: Excess

Reason: Extensive deterioration

Bldg. 479

Naval Construction Battalion Ctr.

Port Hueneme

Oxnard Co: Ventura CA 93043-4301

Landholding Agency: Navy

Property Number: 77200030015

Status: Excess

Reason: Extensive deterioration

Bldg. 1362

Marine Corps Base

Camp Pendleton Co: CA 92055-

Landholding Agency: Navy

Property Number: 77200030030

Status: Excess

Reason: Extensive deterioration

Bldg. 801

Naval Air Station

Point Mugu

Oxnard Co: Ventura CA 93042-5001

Landholding Agency: Navy

Property Number: 77200030043

Status: Unutilized

Reason: Extensive deterioration

Bldg. 41

Naval Const. Battalion Ctr

Port Hueneme Co: Ventura CA 93043-4301

Landholding Agency: Navy

Property Number: 77200030044

Status: Unutilized

Reason: Extensive deterioration

Bldg. 103

Naval Const. Battalion Ctr

Port Hueneme Co: Ventura CA 93043-4301

Landholding Agency: Navy

Property Number: 77200030045

Status: Unutilized

Reason: Extensive deterioration

Bldg. 259

Naval Const. Battalion Ctr

Port Hueneme Co: Ventura CA 93043-4301

Landholding Agency: Navy

Property Number: 77200030046

Status: Unutilized

Reason: Extensive deterioration

Bldg. 260

Naval Const. Battalion Ctr

Port Hueneme Co: CA 93043-4301

Landholding Agency: Navy

Property Number: 77200030047

Status: Unutilized

Reason: Extensive deterioration

Bldg. 274

Naval Const. Battalion Ctr

Port Hueneme Co: Ventura CA 93043-4301

Landholding Agency: Navy

Property Number: 77200030048

Status: Unutilized

Reason: Extensive deterioration

Bldg. 462

Naval Const. Battalion Ctr

Port Hueneme Co: Ventura CA 93043-4301

Landholding Agency: Navy

Property Number: 77200030049

Status: Unutilized

Reason: Extensive deterioration

Bldg. 488

Naval Const. Battalion Ctr

Port Hueneme Co: Ventura CA 93043-4301

Landholding Agency: Navy

Property Number: 77200030050

Status: Unutilized

Reason: Extensive deterioration

Bldg. 1150

Naval Const. Battalion Ctr

Port Hueneme Co: Ventura CA 93043-4301

Landholding Agency: Navy

Property Number: 77200030051

Status: Unutilized

Reason: Extensive deterioration

Bldg. 1156

Naval Const. Battalion Ctr

Port Hueneme Co: Ventura CA 93043-4301

Landholding Agency: Navy

Property Number: 77200030052

Status: Unutilized

Reason: Extensive deterioration

Bldg. 1275

Naval Const. Battalion Ctr

Port Hueneme Co: Ventura CA 93043-4301

Landholding Agency: Navy

Property Number: 77200030053

Status: Unutilized

Reason: Extensive deterioration

Bldg. 1321

Naval Const. Battalion Ctr

Port Hueneme Co: Ventura CA 93043-4301

Landholding Agency: Navy

Property Number: 77200030054

Status: Unutilized

Reason: Extensive deterioration

Bldg. 21091

Marine Corps Air Station

Miramar Co: San Diego CA 92132-

Landholding Agency: Navy

Property Number: 77200030058

Status: Unutilized

Reason: Extensive deterioration

Bldg. 21127

Marine Corps Air Station

Miramar Co: San Diego CA 92132-

Landholding Agency: Navy

Property Number: 77200030059

Status: Unutilized

Reason: Extensive deterioration

Bldg. 9919

Marine Corps Air Station

Miramar Co: San Diego CA 92132-

Landholding Agency: Navy

Property Number: 77200030060

Status: Unutilized

Reason: Extensive deterioration

Bldg. 1468

Naval Base Ventura on Parcel 1

Port Hueneme Co: Ventura CA 93042-5000

Landholding Agency: Navy

Property Number: 77200110013

Status: Unutilized

Reason: Secured Area

Bldg. 1469

Naval Base Ventura

on Parcel 1

Port Hueneme Co: Ventura CA 93042-5000

Landholding Agency: Navy

Property Number: 77200110014

Status: Unutilized

Reason: Secured Area

Bldg. 12041

Naval Air Weapons Station

China Lake Co: CA 93555-6100

Landholding Agency: Navy

Property Number: 77200110065

Status: Excess

Reason: Extensive deterioration

Bldg. 12052

Naval Air Weapons Station

China Lake Co: CA 93555-6100

Landholding Agency: Navy

Property Number: 77200110066

Status: Excess

Reason: Extensive deterioration

Bldg. 16066

Naval Air Weapons Station

China Lake Co: CA 93555-6100

Landholding Agency: Navy

Property Number: 77200110067

Status: Excess

Reason: Extensive deterioration

Bldg. 16074

Naval Air Weapons Station

China Lake Co: CA 93555-6100

Landholding Agency: Navy

Property Number: 77200110068

Status: Excess

Reason: Extensive deterioration

Bldg. 16085

Naval Air Weapons Station

China Lake Co: CA 93555-6100

Landholding Agency: Navy

Property Number: 77200110069

Status: Excess

Reason: Extensive deterioration

Bldg. 16086

Naval Air Weapons Station

China Lake Co: CA 93555-6100

Landholding Agency: Navy

Property Number: 77200110070

Status: Excess

Reason: Extensive deterioration

Bldg. 16100

Naval Air Weapons Station

China Lake Co: CA 93555-6100

Landholding Agency: Navy

Property Number: 77200110071

Status: Excess

Reason: Extensive deterioration

Bldg. 16115

Naval Air Weapons Station

China Lake Co: CA 93555-6100

Landholding Agency: Navy

Property Number: 77200110072

Status: Excess

Reason: Extensive deterioration

Bldg. 16117

Naval Air Weapons Station

China Lake Co: CA 93555-6100

Landholding Agency: Navy

Property Number: 77200110073

Status: Excess

Reason: Extensive deterioration

Bldg. 467

Marine Corps Recruit Depot

San Diego Co: CA 92132-

Landholding Agency: Navy

Property Number: 77200110100

Status: Unutilized

Reason: Secured Area

Bldg. 121 SNI

Naval Air Weapons Station

China Lake Co: CA 93555-6100

Landholding Agency: Navy

Property Number: 77200120001

Status: Excess

Reason: Extensive deterioration

Bldg. 121A SNI

Naval Air Weapons Station

China Lake Co: CA 93555-6100

Landholding Agency: Navy

Property Number: 77200120002

Status: Excess

Reason: Extensive deterioration

Bldg. 121B SNI

Naval Air Weapons Station

China Lake Co: CA 93555-6100

Landholding Agency: Navy

Property Number: 77200120003

Status: Excess

Reason: Extensive deterioration

Bldg. 137 SNI

Naval Air Weapons Station

China Lake Co: CA 93555-6100

Landholding Agency: Navy

Property Number: 77200120004

Status: Excess

Reason: Extensive deterioration

Bldg. 223 SNI

Naval Air Weapons Station

China Lake Co: CA 93555-6100

Landholding Agency: Navy

Property Number: 77200120005

Status: Excess

Reason: Extensive deterioration

Bldg. 01289

Naval Air Weapons Station

China Lake Co: CA 93555-6100

Landholding Agency: Navy

Property Number: 77200120089

Status: Excess

Reason: Extensive deterioration

Bldg. PM1529

Point Mugu, Naval Base

Oxnard Co: Ventura CA 93042-5001

Landholding Agency: Navy

Property Number: 77200120094

Status: Unutilized

Reason: Extensive deterioration

Bldg. PM1606

Point Mugu, Naval Base

Oxnard Co: Ventura CA 93042-5001

Landholding Agency: Navy

Property Number: 77200120095

Status: Unutilized

Reason: Extensive deterioration

Bldg. 70140

Naval Air Weapons Station

China Lake Co: CA 93555-6100

Landholding Agency: Navy

Property Number: 77200120107

Status: Excess

Reason: Extensive deterioration

Bldg. 70141

Naval Air Weapons Station

China Lake Co: CA 93555-6100

Landholding Agency: Navy

Property Number: 77200120108

Status: Excess

Reason: Extensive deterioration

Bldg. 70143

Naval Air Weapons Station

China Lake Co: CA 93555-6100

Landholding Agency: Navy

Property Number: 77200120109

Status: Excess

Reason: Extensive deterioration

Bldg. 25062

Naval Air Weapons Station

China Lake Co: CA 93555-6001

Landholding Agency: Navy

Property Number: 77200120114

Status: Excess

Reason: Extensive deterioration

Bldg. 33023

Naval Air Weapons Station

China Lake Co: CA 93555-6001

Landholding Agency: Navy

Property Number: 77200120115

Status: Excess

Reason: Extensive deterioration

Bldg. 33054

Naval Air Weapons Station

China Lake Co: CA 93555-6001

Landholding Agency: Navy

Property Number: 77200120116

Status: Excess

Reason: Extensive deterioration

Bldg. 36

Marine Corps Logistics Base

Barstow Co: San Bernardino CA 92311-

Landholding Agency: Navy

Property Number: 77200130001

Status: Unutilized

Reason: Extensive deterioration

Bldgs. 60, 61, 64, 65

Marine Corps Logistics Base

Barstow Co: San Bernardino CA 92311-

Landholding Agency: Navy

Property Number: 77200130002

Status: Unutilized

Reason: Extensive deterioration

Bldg. 171

Marine Corps Logistics Base

Barstow Co: San Bernardino CA 92311-

Landholding Agency: Navy

Property Number: 77200130003

Status: Unutilized

Reason: Extensive deterioration

Bldg. 278

Marine Corps Logistics Base

Barstow Co: San Benardino CA 92311-

Landholding Agency: Navy

Property Number: 77200130004

Status: Unutilized

Reason: Extensive deterioration

Bldg. 351

Marine Corps Logistics Base

Barstow Co: San Bernardino CA 92311-

Landholding Agency: Navy

Property Number: 77200130005

Status: Unutilized

Reason: Extensive deterioration

Bldg. 130

Naval Station

San Diego Co: CA 92132-

Landholding Agency: Navy

Property Number: 77200130006

Status: Excess

Reason: Extensive deterioration

Bldg. 415

Naval Station

San Diego Co: CA 92132-

Landholding Agency: Navy

Property Number: 77200130007

Status: Excess

Reason: Extensive deterioration

Structure 20104

Naval Air Weapons Station

China Lake Co: CA 93555-6100

Landholding Agency: Navy

Property Number: 77200130008

Status: Excess

Reason: Extensive deterioration

Structure 31424

Naval Air Weapons Station

China Lake Co: CA 93555-6100

Landholding Agency: Navy

Property Number: 77200130009

Status: Excess

Reason: Extensive deterioration

Structure 31592

Naval Air Weapons Station

China Lake Co: CA 93555-6100

Landholding Agency: Navy

Property Number: 77200130010

Status: Excess

Reason: Extensive deterioration

Facility 26

Naval Weapons Station

Seal Beach Co: CA 90740-5000

Landholding Agency: Navy

Property Number: 77200130011

Status: Unutilized

Reason: Secured Area

Bldg. 114

Naval Air Facility

El Centro Co: Imperial CA 92243-

Landholding Agency: Navy

Property Number: 77200130016

Status: Unutilized

Reason: Extensive deterioration

Bldg. 375

Naval Air Facility

El Centro Co: Imperial CA 92243-

Landholding Agency: Navy

Property Number: 77200130017

Status: Unutilized

Reason: Extensive deterioration

Bldg. 376

Naval Air Facility

El Centro Co: Imperial CA 92243-

Landholding Agency: Navy

Property Number: 77200130018

Status: Unutilized

Reason: Extensive deterioration

Bldgs. 11070, 11080

Naval Air Weapons Station

China Lake Co: CA 93555-6100

Landholding Agency: Navy

Property Number: 77200130025

Status: Excess

Reason: Extensive deterioration

Bldg. PM7002

Point Mugu Site Naval Base

Oxnard Co: Ventura CA 93042-5000

Landholding Agency: Navy

Property Number: 77200140001

Status: Unutilized

Reason: Extensive deterioration

Bldg. 1244

Marine Corps Base

Camp Pendleton Co: CA 92055-

Landholding Agency: Navy

Property Number: 77200140002

Status: Excess

Reason: Extensive deterioration

Bldg. 1331

Marine Corps Base

Camp Pendleton Co: CA 92055-

Landholding Agency: Navy

Property Number: 77200140003

Status: Excess

Reason: Extensive deterioration

Bldg. 1364

Marine Corps Base

Camp Pendleton Co: CA 92055-

Landholding Agency: Navy

Property Number: 77200140004

Status: Excess

Reason: Extensive deterioration

Bldg. 1674

Marine Corps Base

Camp Pendleton Co: CA 92055-

Landholding Agency: Navy

Property Number: 77200140005

Status: Excess

Reason: Extensive deterioration

Bldg. 1229

Marine Corps Base

Camp Pendleton Co: CA 92055-

Landholding Agency: Navy

Property Number: 77200140006

Status: Excess

Reason: Extensive deterioration

Bldg. 1242

Marine Corps Base

Camp Pendleton Co: CA 92055-

Landholding Agency: Navy

Property Number: 77200140007

Status: Excess

Reason: Extensive deterioration

Bldg. 1243

Marine Corps Base

Camp Pendleton Co: CA 92055-

Landholding Agency: Navy

Property Number: 77200140008

Status: Excess

Reason: Extensive deterioration

Bldg. 1253

Marine Corps Base

Camp Pendleton Co: CA 92055-

Landholding Agency: Navy

Property Number: 77200140009

Status: Excess

Reason: Extensive deterioration

Bldg. PM388

Naval Air Station, Point Mugu

Oxnard Co: Ventura CA 93042-5000

Landholding Agency: Navy

Property Number: 77200140010

Status: Unutilized

Reason: Extensive deterioration

Bldg. PM54

Naval Air Station

Point Mugu Co: Ventura CA 93042-5000

Landholding Agency: Navy

Property Number: 77200210001

Status: Unutilized

Reason: Extensive deterioration

Bldg. PM56

Naval Air Station

Point Mugu Co: Ventura CA 93042-5000

Landholding Agency: Navy

Property Number: 77200210002

Status: Unutilized

Reason: Extensive deterioration

Bldg. PM754

Naval Air Station

Point Mugu Co: Ventura CA 93042-5000

Landholding Agency: Navy

Property Number: 77200210003

Status: Unutilized

Reason: Extensive deterioration

Bldg. PM777

Naval Air Station

Point Mugu Co: Ventura CA 93042-5000

Landholding Agency: Navy

Property Number: 77200210004

Status: Unutilized

Reason: Extensive deterioration

Bldg. PM7007

Naval Air Station

Point Mugu Co: Ventura CA 93042-5000

Landholding Agency: Navy

Property Number: 77200210005

Status: Unutilized

Reason: Extensive deterioration

Bldg. 303

Naval Weapons Station

Fallbrook Co: CA 92028-3187

Landholding Agency:Navy

Property Number: 77200210006

Status: Unutilized

Reason: Extensive deterioration

Bldg. 1233

Marine Corps Base

Camp Pendleton Co: CA 92055-

Landholding Agency: Navy

Property Number: 77200210007

Status: Excess

Reason: Extensive deterioration

Bldg. 1345

Marine Corps Base

Camp Pendleton Co: CA 92055-

Landholding Agency: Navy

Property Number: 77200210008

Status: Excess

Reason: Extensive deterioration

Bldg. 1643

Marine Corps Base

Camp Pendleton Co: CA 92055-

Landholding Agency: Navy

Property Number: 77200210009

Status: Excess

Reason: Extensive deterioration

Bldg. 1644

Marine Corps Base

Camp Pendleton Co: CA 92055-

Landholding Agency: Navy

Property Number: 77000210010

Status: Excess

Reason: Extensive deterioration

Bldg. 1672

Marine Corps Base

Camp Pendleton Co: CA 92055-

Landholding Agency: Navy

Property Number: 77200210011

Status: Excess

Reason: Extensive deterioration

Bldg. 1673

Marine Corps Base

Camp Pendleton Co: CA 92055-

Landholding Agency:Navy

Property Number: 77200210012

Status: Excess

Reason: Extensive deterioration

Bldg. 2669

Marine Corps Base

Camp Pendleton Co: CA 92055-

Landholding Agency: Navy

Property Number: 77200210013

Status: Excess

Reason: Extensive deterioration

Bldg. 13116

Marine Corps Base

Camp Pendleton Co: CA 92055-

Landholding Agency: Navy

Property Number: 77200210014

Status: Excess

Reason: Extensive deterioration

Bldg. 6

Navy Marine Corps Rsv Ctr

Sacramento Co: CA 95828-

Landholding Agency: Navy

Property Number: 77200210017

Status: Unutilized

Reason: Secured Area

Bldg. 799

Naval Air Station

North Island Co: CA

Landholding Agency: Navy

Property Number: 77200210064

Status: Excess

Reason: Extensive deterioration

Bldg. 1255

Marine Corps Base

Camp Pendleton Co: CA 92055-

Landholding Agency: Navy

Property Number: 77200210087

Status: Excess

Reason: Extensive deterioration

Bldg. 1508

Marine Corps Base

Camp Pendleton Co: CA 92055-

Landholding Agency: Navy

Property Number: 77200210088

Status: Excess

Reason: Extensive deterioration

Bldg. 18417

Marine Corps Base

Camp Pendleton Co: CA 92055-

Landholding Agency: Navy

Property Number: 77200210089

Status: Excess

Reason: Extensive deterioration

Blg. 22159

Marine Corps Base

Camp Pendleton Co: CA 92055-

Landholding Agency: Navy

Property Number: 77200210090

Status: Excess

Reason: Extensive deterioration

Bldg. 41302

Marine Corps Base

Camp Pendleton Co: CA 92055-

Landholding Agency: Navy

Property Number: 77200210091

Status: Excess

Reason: Extensive deterioration

Bldg. 52830

Marine Corps Base

Camp Pendleton Co: CA 92055-

Landholding Agency: Navy

Property Number: 77200210092

Status: Excess

Reason: Extensive deterioration

Bldg. 62551

Marine Corps Base

Camp Pendleton Co: CA 92055-

Landholding Agency: Navy

Property Number: 77200210093

Status: Excess

Reason: Extensive deterioration

Bldg. 210548

Marine Corps Base

Camp Pendleton Co: CA 92055-

Landholding Agency: Navy

Property Number: 77200210094

Status: Excess

Reason: Extensive deterioration

Bldg. 799

Naval Air Station

North Island Co: CA

Landholding Agency: Navy

Property Number: 77200210124

Status: Excess

Reason: Extensive deterioration

Bldg. 2616

Marine Corps Base

Camp Pendleton Co: CA 92055-

Landholding Agency: Navy

Property Number: 77200220001

Status: Excess

Reason: Extensive deterioration

Bldg. 2634

Marine Corps Base

Camp Pendleton Co: CA 92055-

Landholding Agency: Navy

Property Number: 77200220002

Status: Excess

Reason: Extensive deterioration

Bldg. 2643

Marine Corps Base

Camp Pendleton Co: CA 92055-

Landholding Agency: Navy

Property Number: 77200220003

Status: Excess

Reason: Extensive deterioration

Bldg. 2644

Marine Corps Base

Camp Pendleton Co: CA 90255-

Landholding Agency: Navy

Property Number: 77200220004

Status: Excess

Reason: Extensive deterioration

Bldg. 2645

Marine Corps Base

Camp Pendleton Co: CA 92055-

Landholding Agency: Navy

Property Number: 77200220005

Status: Excess

Reason: Extensive deterioration

Bldg. 2646

Marine Corps Base

Camp Pendleton Co: CA 92055-

Landholding Agency: Navy

Property Number: 77200220006

Status: Excess

Reason: Extensive deterioration

Bldg. 2659

Marine Corps Base

Camp Pendleton Co: CA 92055-

Landholding Agency: Navy

Property Number: 77200220007

Status: Excess

Reason: Extensive deterioration

Bldg. 2254

Marine Corps Air Station

Miramar Co: CA

Landholding Agency: Navy

Property Number: 77200220027

Status: Unutilized

Reason: Extensive deterioration

Bldg. 24002

Marine Corps Air Station

Miramar Co: CA

Landholding Agency: Navy

Property Number: 77200220028

Status: Unutilized

Reason: Extensive deterioration

Bldg. 9496

Marine Corps Air Station

Miramar Co: CA

Landholding Agency: Navy

Property Number: 77200220029

Status: Unutilized

Reason: Extensive deterioration

Bldg. 41308

Marine Corps Base

Camp Pendleton Co: CA 92055-

Landholding Agency: Navy

Property Number: 77200220031

Status: Excess

Reason: Extensive deterioration

Eniwetok Carports

Marine Corps Logistics Base

Barstow Co: San Bernardino CA 92311-

Landholding Agency: Navy

Property Number: 77200220032

Status: Unutilized

Reason: Extensive deterioration

Eniwetok Public Quarters

Marine Corps Logistics Base

Barstow Co: San Bernardino CA 92311-

Landholding Agency: Navy

Property Number: 77200220033

Status: Unutilized

Reason: Extensive deterioration

Bldg. 229

Naval Weapons Station

Seal Beach

Fallbrook Co: CA 92028-3187

Landholding Agency: Navy

Property Number: 77200220048

Status: Unutilized

Reason: Extensive deterioration

Bldg. 331

Naval Weapons Station

Seal Beach

Fallbrook Co: CA 92028-3187

Landholding Agency: Navy

Property Number: 77200220049

Status: Unutilized

Reason: Extensive deterioration

Bldg. 434

Naval Weapons Station

Seal Beach

Fallbrook Co: CA 92028-3187

Landholding Agency: Navy

Property Number: 77200220050

Status: Unutilized

Reason: Extensive deterioration

Bldg. 437

Naval Weapons Station

Seal Beach

Fallbrook Co: CA 92028-3187

Landholding Agency: Navy

Property Number: 77200220051

Status: Unutilized

Reason: Extensive deterioration

Bldg. 440

Naval Weapons Station

Seal Beach

Fallbrook Co: CA 92028-3187

Landholding Agency: Navy

Property Number: 77200220052

Status: Unutilized

Reason: Extensive deterioration

Bldg. 906

Naval Weapons Station

Seal Beach

Fallbrook Co: CA 92028-3187

Landholding Agency: Navy

Property Number: 77200220053

Status: Unutilized

Reason: Extensive deterioration

Bldgs. 154, 157

Navy Region South West

San Diego Co: CA

Landholding Agency: Navy

Property Number: 77200220072

Status: Excess

Reason: Extensive deterioration

Bldg. P-1019

Marine Corps Base

Camp Pendleton Co: CA 92055-

Landholding Agency: Navy

Property Number: 77200220073

Status: Excess

Reason: Extensive deterioration

Bldg. P-4039

Marine Corps Base

Camp Pendleton Co: CA 92055-

Landholding Agency: Navy

Property Number: 77200220074

Status: Excess

Reason: Extensive deterioration

Bldg. P-5011

Marine Corps Base

Camp Pendleton Co: CA 92055-

Landholding Agency: Navy

Property Number: 77200220075

Status: Excess

Reason: Extensive deterioration

Bldg. P7058

Marine Corps Base

Camp Pendleton Co: CA 92055-

Landholding Agency: Navy

Property Number: 77200220076

Status: Excess

Reason: Extensive deterioration

Bldg. 354

Naval Weapons Station

Seal Beach Co: CA

Landholding Agency: Navy

Property Number: 77200220077

Status: Unutilized

Reason: Extensive deterioration

Bldg. 356

Naval Weapons Station

Seal Beach Co: CA

Landholding Agency: Navy

Property Number: 77200220078

Status: Unutilized

Reason: Extensive deterioration

Bldg. 357

Naval Weapons Station

Seal Beach Co: CA

Landholding Agency: Navy

Property Number: 77200220079

Status: Unutilized

Reason: Extensive deterioration

Bldg. 358

Naval Weapons Station

Seal Beach Co: CA

Landholding Agency: Navy

Property Number: 77200220080

Status: Unutilized

Reason: Extensive deterioration

Bldg. PH5125

Naval Construction Battalion

Port Hueneme Co: Ventura CA 93043-4301

Landholding Agency: Navy

Property Number: 77200230043

Status: Unutilized

Reason: Extensive deterioration

District of Columbia

Bldg. A-092

Naval Station Anacostia

Washington Co: DC 20374-

Landholding Agency: Navy

Property Number: 77200110046

Status: Underutilized

Reason: Secured Area

Bldg. A-150

Naval District

Anacostia Annex

Washington Co: DC 20374-

Landholding Agency: Navy

Property Number: 77200140016

Status: Unutilized

Reason: Extensive deterioration

Bldg. A-057

Naval District

Anacostia Annex

Washington Co: DC 20374-

Landholding Agency: Navy

Property Number: 77200140017

Status: Unutilized

Reason: Extensive deterioration

Bldg. A-087/002

Naval District

Anacostia Annex

Washington Co: DC 20374-

Landholding Agency: Navy

Property Number: 77200140018

Status: Unutilized

Reason: Extensive deterioration

Florida

U.S. Courthouse

311 West Monroe Street

Jacksonville Co: Duval FL 32209-

Landholding Agency: GSA

Property Number: 54200140010

Status: Excess

Reason: Within airport runway clear zone

GSA Number: 4-G-FL-1178

U.S. Customs House

1700 Spangler Boulevard

Hollywood Co: Broward FL 33316-

Landholding Agency: GSA

Property Number: 54200140012

Status: Surplus

Reasons: Within 2000 ft. of flammable or explosive material; Secured Area

GSA Number: 4-G-FL-1173

Bldg. 1558

NAS Jacksonville

Jacksonville Co: Duval FL 32212-

Landholding Agency: Navy

Property Number: 77200010001

Status: Unutilized

Reasons: Within 2000 ft. of flammable or explosive material Secured Area

Bldg. 7L

NAS Jacksonville

Jacksonville Co: Duval FL 32212-

Landholding Agency: Navy

Property Number: 77200010004

Status: Unutilized

Reasons: Secured Area; Extensive deterioration

Bldg. 7H

Naval Air Station

Jacksonville Co: Duval FL 32212-

Landholding Agency: Navy

Property Number: 77200020064

Status: Unutilized

Reasons: Secured Area; Extensive deterioration

Bldg. 7J

Naval Air Station

Jacksonville Co: Duval FL 32212-

Landholding Agency: Navy

Property Number: 77200020065

Status: Unutilized

Reasons: Secured Area; Extensive deterioration

Bldg. 7K

Naval Air Station

Jacksonville Co: Duval FL 32212-

Landholding Agency: Navy

Property Number: 77200020066

Status: Unutilized

Reasons: Secured Area; Extensive deterioration

Bldg. 135

Naval Air Station

Jacksonville Co: Duval FL 32212-

Landholding Agency: Navy

Property Number: 77200020068

Status: Unutilized

Reasons:

Secured Area; Extensive deterioration

Bldg. 211

Naval Station

Mayport Co: Duval FL 32228-

Landholding Agency: Navy

Property Number: 77200020077

Status: Unutilized

Reasons:

Secured Area; Extensive deterioration

Bldg. 62

NAS Jacksonville

Altoona Co: Marion FL 32702-

Landholding Agency: Navy

Property Number: 77200020111

Status: Unutilized

Reasons:

Secured Area; Extensive deterioration

Bldg. 94

NAS Jacksonville

Altoona Co: Marion FL 32702-

Landholding Agency: Navy

Property Number: 77200020112

Status: Unutilized

Reasons:

Secured Area; Extensive deterioration

Bldg. 114

Naval Air Station

Whiting Field

Milton Co: Santa Rosa FL 32570-

Landholding Agency: Navy

Property Number: 77200040006

Status: Underutilized

Reasons: Within airport runway clear zone; Secured Area

Bldg. 133

Naval Air Station

Whiting Field

Milton Co: Santa Rosa FL 32570-

Landholding Agency: Navy

Property Number: 77200040007

Status: Underutilized

Reasons: Within airport runway clear zone; Secured Area

Bldg. 141

Naval Air Station

Whiting Field

Milton Co: Santa Rosa FL 32570-

Landholding Agency: Navy

Property Number: 77200040008

Status: Underutilized

Reasons: Within airport runway clear zone; Secured Area

16 Bldgs.

Naval Air Station

Whiting Field

Milton Co: Santa Rosa FL 32570-

Location: 142, 151, 153, 156, 164, 170, 171, 176, 178, 180, 182-187

Landholding Agency: Navy

Property Number: 77200040009

Status: Underutilized

Reasons: Within airport runway clear zone; Secured Area

11 Bldgs.

Naval Air Station

Whiting Field

Milton Co: Santa Rosa FL 32570-

Location: 103, 105, 112, 113, 115-119, 121, 122

Landholding Agency: Navy

Property Number: 77200040010

Status: Underutilized

Reasons: Within airport runway clear zone; Secured Area

23 Bldgs.

Naval Air Station

Whiting Field

Milton Co: Santa Rosa FL 32570-

Location: 143-150, 152, 154, 155, 157, 158, 160-163, 165, 166, 168, 169, 179, 181

Landholding Agency: Navy

Property Number: 77200040011

Status: Underutilized

Reasons: Within airport runway clear zone; Secured Area

5 Bldgs.

Naval Air Station

Whiting Field

Milton Co: Santa Rosa FL 32570-

Location: 173, 174, 175, 177, 188

Landholding Agency: Navy

Property Number: 77200040012

Status: Underutilized

Reasons: Within airport runway clear zone; Secured Area

6 Bldgs.

Naval Air Station

Whiting Field

Milton Co: Santa Rosa FL 32570-

Location: 130-132, 134-136

Landholding Agency: Navy

Property Number: 77200040013

Status: Underutilized

Reasons: Within airport runway clear zone; Secured Area

Bldgs. 159, 167, 172

Naval Air Station

Whiting Field

Milton Co: Santa Rosa FL 32570-

Landholding Agency: Navy

Property Number: 77200040014

Status: Underutilized

Reasons: Within airport runway clear zone; Secured Area

5 Bldgs.

Naval Air Station

Whiting Field

Milton Co: Santa Rosa FL 32570-

Location: 124, 127, 138-140

Landholding Agency: Navy

Property Number: 77200040015

Status: Underutilized

Reasons: Within airport runway clear zone; Secured Area

5 Bldgs.

Naval Air Station

Whiting Field

Milton Co: Santa Rosa FL 32570-

Location: 107, 109, 111, 120, 123

Landholding Agency: Navy

Property Number: 77200040016

Status: Underutilized

Reasons: Within airport runway clear zone; Secured Area

5 Bldgs.

Naval Air Station

Whiting Field

Milton Co: Santa Rosa FL 32570-

Location: 102, 104, 106, 108, 110

Landholding Agency: Navy

Property Number: 77200040017

Status: Underutilized

Reasons: Within airport runway clear zone; Secured Area

Bldg. 172

Naval Air Station

Jacksonville Co: Duval FL 32212-

Landholding Agency: Navy

Property Number: 77200130012

Status: Unutilized

Reason: Extensive deterioration

Bldg. 146

Naval Air Station

Pensacola Co: Escambia FL 32508-,FP-1>Landholding Agency: Navy

Property Number: 77200130070

Status: Underutilized

Reason: Secured Area

Bldg. 679

Naval Air Station

Pensacola Co: Escambia FL 32508-

Landholding Agency: Navy

Property Number: 77200130071

Status: Underutilized

Reason: Secured Area

Bldg. 680

Naval Air Station

Pensacola Co: Escambia FL 32508-

Landholding Agency: Navy

Property Number: 77200130072

Status: Unutilized

Reason: Secured Area

Bldg. 743

Naval Air Station

Pensacola Co: Escambia FL 32508-

Landholding Agency: Navy

Property Number: 77200130073

Status: Unutilized

Reason: Secured Area

Bldg. 782

Naval Air Station

Pensacola Co: Escambia FL 32508-

Landholding Agency: Navy

Property Number: 77200130074

Status: Underutilized

Reason: Secured Area

Bldg. 782A

Naval Air Station

Pensacola Co: Escambia FL 32508-

Landholding Agency: Navy

Property Number: 77200130075

Status: Unutilized

Reason: Secured Area

Bldg. 1082

Naval Air Station

Pensacola Co: Escambia FL 32508-

Landholding Agency: Navy

Property Number: 77200130076

Status: Underutilized

Reason: Secured Area

Bldg. 1536

Naval Air Station

Pensacola Co: Escambia FL 32508-

Landholding Agency: Navy

Property Number: 77200130077

Status: Unutilized

Reason: Secured Area

Bldg. 1567

Naval Air Station

Pensacola Co: Escambia FL 32508-

Landholding Agency: Navy

Property Number: 77200130078

Status: Unutilized

Reason: Secured Area

Bldg. 1735

Naval Air Station

Pensacola Co: Escambia FL 32508-

Landholding Agency: Navy

Property Number: 77200130079

Status: Underutilized

Reason: Secured Area

Bldg. 1813

Naval Air Station

Pensacola Co: Escambia FL 32508-

Landholding Agency: Navy

Property Number: 77200130080

Status: Unutilized

Reason: Secured Area

Bldg. 2666

Naval Air Station

Pensacola Co: Escambia FL 32508-

Landholding Agency: Navy

Property Number: 77200130081

Status: Unutilized

Reason: Secured Area

Bldg. 3278

Naval Air Station

Pensacola Co: Escambia FL 32508-

Landholding Agency: Navy

Property Number: 77200130082

Status: Unutilized

Reason: Secured Area

Bldg. 3378

Naval Air Station

Pensacola Co: Escambia FL 32508-

Landholding Agency: Navy

Property Number: 77200130083

Status: Unutilized

Reason: Secured Area

Bldg. 3589

Naval Air Station

Pensacola Co: Escambia FL 32508-

Landholding Agency: Navy

Property Number: 77200130084

Status: Underutilized

Reason: Secured Area

Guam

68 Units

Naval Forces

South Tipalao Area

Marianas Co: GU

Landholding AGENCY: Navy

Property Number: 77200210065

Status: Excess

Reason: Secured Area

36 Units

Naval Forces

North Tipalao Area

Marianas Co: GU

Landholding Agency: Navy

Property Number: 77200210066

Status: Excess

Reason: Secured Area

130 Units

Naval Forces

South Finegayan Area

Marianas Co: GU

Landholding Agency: Navy

Property Number: 77200210067

Status: Excess

Reason: Secured Area

64 Units

Naval Forces

North Finegayan Area

Marianas Co: GU

Landholding Agency: Navy

Property Number: 77200210068

Status: Excess

Reason: Secured Area

158 Units

Naval Forces

North Finegayan Area

Marianas Co: GU

Landholding Agency: Navy

Property Number: 77200210069

Status: Excess

Reason: Secured Area

Bldg. 138

Naval Forces, Marianas

Marianas Co: GU 96540-

Landholding Agency: Navy

Property Number: 77200210100

Status: Unutilized

Reason: Secured Area

Bldg. 460

Naval Forces, Marianas

Marianas Co: GU 96540-

Landholding Agency: Navy

Property Number: 77200210101

Status: Unutilized

Reason: Secured Area

Bldg. 1741

Naval Forces, Marianas

Marianas Co: GU 96540-

Landholding Agency: Navy

Property Number: 77200210102

Status: Unutilized

Reason: Secured Area

Bldg. 1742

Naval Forces, Marianas

Marianas Co: GU 96540-

Landholding Agency: Navy

Property Number: 77200210103

Status: Underutilized

Reason: Secured Area

Bldg. 1743

Naval Forces, Marianas

Marianas Co: GU 96540-

Landholding Agency: Navy

Property Number: 77200210104

Status: Underutilized

Reason: Secured Area

Bldg. 6012

Naval Forces, Marianas

Marianas Co: GU 96540-

Landholding Agency: Navy

Property Number: 77200210105

Status: Unutilized

Reason: Secured Area

Bldg. 6011

Naval Forces, Marianas

Marianas Co: GU 96540-

Landholding Agency: Navy

Property Number: 77200220024

Status: Unutilized

Reason: Secured Area

Hawaii

Bldg. 126, Naval Magazine

Waikele Branch

Lualualei Co: Oahu HI 96792-

Landholding Agency: Navy

Property Number: 77199230012

Status: Unutilized

Reasons: Within 2000 ft. of flammable or explosive material; Extensive Deterioration; Secured Area

Bldg. Q75, Naval Magazine

Lualualei Branch

Lualualei Co: Oahu HI 96792-

Landholding Agency: Navy

Property Number: 77199230013

Status: Unutilized

Reasons: Extensive Deterioration; Secured Area

Bldg. 7, Naval Magazine

Lualualei Branch

Lualualei Co: Oahu HI 96792-

Landholding Agency: Navy

Property Number: 77199230014

Status: Unutilized

Reasons: Extensive Deterioration; Secured Area

Bldg. 9

Navy Public Works Center

Kolekole Road

Lualualei Co: Honolulu HI 96782-

Landholding Agency: Navy

Property Number: 77199530009

Status: Excess

Reasons: Within 2000 ft. of flammable or explosive material; Secured Area

Bldg. X5

Nanumea Road

Pearl Harbor Co: Honolulu HI 96782-

Landholding Agency: Navy

Property Number: 77199530010

Status: Excess

Reason: Secured Area

Bldg. SX30

Nanumea Road

Pearl Harbor Co: Honolulu HI 96860-

Landholding Agency: Navy

Property Number: 77199530011

Status: Excess

Reason: Secured Area

Bldg. 98

Pearl Harbor Naval Shipyard

Pearl Harbor Co: Honolulu HI 96860-

Landholding Agency: Navy

Property Number: 77199620032

Status: Excess

Reason: Extensive deterioration

Bldg. Q13

Naval Station, Ford Island

Pearl Harbor Co: Honolulu HI 96860-

Landholding Agency: Navy

Property Number: 77199640035

Status: Unutilized

Reason: Extensive deterioration

Bldg. Q14

Naval Station, Ford Island

Pearl Harbor Co: Honolulu HI 96860-

Landholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility S-721

Naval Station

Pearl Harbor Co: Honolulu HI 96860-

Landholding Agency: Navy

Property Number: 77199840042

Status: Excess

Reason: Secured Area

Facility 19

Naval Station

Pearl Harbor Co: Honolulu HI 96860-

Landholding Agency: Navy

Property Number: 77199840045

Status: Excess

Reason: Secured Area

Facility SX30

Navy Public Works Center

Pearl Harbor Co: Honolulu HI 96860-

Landholding Agency: Navy

Property Number: 77199920027

Status: Excess

Reasons: Secured Area

Extensive deterioration

Illinois

Navy Family Housing

18-units

Hanna City Co: Peoria IL 61536-

Landholding Agency: GSA

Property Number: 54199940018

Status: Excess

Reason: Within 2000 ft. of flammable or explosive material

GSA Number: 1-N-IL-723

Bldg. 415

Naval Training Center

201 N. Decatur Ave.

Great Lakes IL

Landholding Agency: Navy

Property Number: 77199840023

Status: Unutilized

Reason: Secured Area

Bldg. 1015

Naval Training Center

201 N. Decatur Ave.

Great Lakes IL

Landholding Agency: Navy

Property Number: 77199840024

Status: Unutilized

Reason: Secured Area

Bldg. 1016

Naval Training Center

201 N. Decatur Ave.

Great Lakes IL

Landholding Agency: Navy

Property Number: 77199840025

Status: Unutilized

Reason: Secured Area

Bldg. 910

Naval Training Center

Great Lakes Co: IL 60088-5000

Landholding Agency: Navy

Property Number: 77199920055

Status: Unutilized

Reason: Secured Area

Bldg. 800

Naval Training Center

Great Lakes Co: IL 60088-5000

Landholding Agency: Navy

Property Number: 77199920056

Status: Unutilized

Reason: Secured Area

Bldg. 1000

Naval Training Center

Great Lakes Co: IL 60088-5000

Landholding Agency: Navy

Property Number: 77199920057

Status: Unutilized

Reason: Secured Area

Bldg. 1200

Naval Training Center

Great Lakes Co: IL 60088-5000

Landholding Agency: Navy

Property Number: 77199920058

Status: Unutilized

Reason: Secured Area

Bldg. 1400

Naval Training Center

Great Lakes Co: IL 60088-5000

Landholding Agency: Navy

Property Number: 77199920059

Status: Unutilized

Reason: Secured Area

Bldg. 1600

Naval Training Center

Great Lakes Co: IL 60088-5000

Landholding Agency: Navy

Property Number: 77199920060

Status: Unutilized

Reason: Secured Area

Bldg. 2600

Naval Training Center

Great Lakes Co: IL 60088-5000

Landholding Agency: Navy

Property Number: 77199920061

Status: Unutilized

Reason: Secured Area

Kansas

Sunflower AAP

DeSoto Co: Johnson KS 66018-

Landholding Agency: GSA

Property Number: 54199830010

Status: Excess

Reason: Extensive deterioration

GSA Number: 7-D-KS-0581

Maine

Sound Signal Station

Manana Island

Manana Island Co: ME

Landholding Agency: GSA

Property Number: 54200210008

Status: Excess

Reason: Inaccessible

GSA Number: 1-U-ME-646B

Maryland

15 Bldgs.

Naval Air Warfare Center

Patuxent River Co: St. Mary's MD 20670-5304

Landholding Agency: Navy

Property Number: 77199730062

Status: Unutilized

Reason: Extensive deterioration

Bldg. 867

Naval Air Station

Patuxent River Co: MD 20670-

Landholding Agency: Navy

Property Number: 77200120010

Status: Excess

Reason: Extensive deterioration

Bldg. 868

Naval Air Station

Patuxent River Co: MD 20670-

Landholding Agency: Navy

Property Number: 77200120011

Status: Excess

Reason: Extensive deterioration

Bldg. 1044

Naval Air Station

Patuxent River Co: MD 20670-

Landholding Agency: Navy

Property Number: 77200120012

Status: Excess

Reason: Extensive deterioration

Bldg. S-038

Naval District

Solomons Complex

Solomons Co: MD 20688-0147

Landholding Agency: Navy

Property Number: 77200140013

Status: Unutilized

Reason: Extensive deterioration

Bldg. S-046

Naval District

Solomons Complex

Solomons Co: MD 20688-0147

Landholding Agency: Navy

Property Number: 77200140014

Status: Unutilized

Reason: Extensive deterioration

Bldg. F-1676

Naval Air Facility

Andrews AFB Co: MD 20762-5518

Landholding Agency: Navy

Property Number: 77200140015

Status: Unutilized

Reason: Extensive deterioration

Bldg. 585

Naval Air Station

Patuxent River Co: MD

Landholding Agency: Navy

Property Number: 77200220030

Status: Excess

Reason: Extensive deterioration

Michigan

Navy Housing

64 Barberry Drive

Springfield Co: Calhoun MI 49015-

Landholding Agency: GSA

Property Number: 54200020013

Status: Excess

Reason: Within 2000 ft. of flammable or explosive material

GSA Number: 1-N-MI-795

Stroh Army Reserve Center

17825 Sherwood Ave.

Detroit Co: Wayne MI 00000-

Landholding Agency: GSA

Property Number: 54200040001

Status: Surplus

Reason: Within 2000 ft. of flammable or explosive material

GSA Number: 1-D-MI-798

Minnesota

Naval Ind. Rsv Ordnance Plant

Minneapolis Co: MN 55421-1498

Landholding Agency: GSA

Property Number: 54199930004

Status: Excess

Reason: Within 2000 ft. of flammable or explosive material

GSA Number: 1-N-MN-570

Nike Battery Site, MS-40

Castle Rock Township

Farmington Co: Dakota MN 00000-

Landholding Agency: GSA

Property Number: 54200020004

Status: Surplus

Reason: Within 2000 ft. of flammable or explosive material

GSA Number: 1-I-MN-451-B

Mississippi

Bldg. 12

Naval Construction Battalion Center

Gulfport Co: Harrison MS 39501-

Landholding Agency: Navy

Property Number: 77200130029

Status: Unutilized

Reason: Secured Area

Bldg. 23

Naval Construction Battalion Center

Gulfport Co: Harrison MS 39501-

Landholding Agency: Navy

Property Number: 77200130030

Status: Unutilized

Reason: Secured Area

Bldg. 36

Naval Construction Battalion Center

Gulfport Co: Harrison MS 39501-

Landholding Agency: Navy

Property Number: 77200130031

Status: Unutilized

Reasons: Secured Area; Extensive deterioration

Bldg. 141

Naval Construction Battalion Center

Gulfport Co: Harrison MS 39501-

Landholding Agency: Navy

Property Number: 77200130032

Status: Unutilized

Reasons: Secured Area; Extensive deterioration

Bldg. 172

Naval Construction Battalion Center

Gulfport Co: Harrison MS 39501-

Landholding Agency: Navy

Property Number: 77200130033

Status: Unutilized

Reasons: Secured Area; Extensive deterioration

Bldg. 185

Naval Construction Battalion Center

Gulfport Co: Harrison MS 39501-

Landholding Agency: Navy

Property Number: 77200130034

Status: Unutilized

Reasons: Secured Area; Extensive deterioration

Bldg. 220

Naval Construction Battalion Center

Gulfport Co: Harrison MS 39501-

Landholding Agency: Navy

Property Number: 77200130035

Status: Unutilized

Reasons: Secured Area; Extensive deterioration

Bldg. 236

Naval Construction Battalion Center

Gulfport Co: Harrison MS 39501-

Landholding Agency: Navy

Property Number: 77200130036

Status: Unutilized

Reasons: Secured Area; Extensive deterioration

Structure 427

Naval Construction Battalion Center

Gulfport Co: Harrison MS 39501-

Landholding Agency: Navy

Property Number: 77200130037

Status: Unutilized

Reason: Secured Area

Nevada

6 Bldgs.

Dale Street Complex

300, 400, 500, 600, Block Bldg, Valve House

Boulder City Co: NV 89005-

Landholding Agency: GSA

Property Number: 54200020017

Status: Excess

Reason: Extensive deterioration

GSA Number: LC-00-01-RP

New Jersey

Bldg. 01301

Picatinny Arsenal

Dover Co: NJ 07806-5000

Landholding Agency: Army

Property Number: 21200230071

Status: Unutilized

Reasons: Within 2000 ft. of flammable or explosive material; Secured Area

Bldg. 01302

Picatinny Arsenal

Dover Co: NJ 07806-5000

Landholding Agency: Army

Property Number: 21200230072

Status: Unutilized

Reasons: Within 2000 ft. of flammable or explosive material; Secured Area

Bldg. 01303

Picatinny Arsenal

Dover Co: NJ 07806-5000

Landholding Agency: Army

Property Number: 21200230073

Status: Unutilized

Reasons: Within 2000 ft. of flammable or explosive material; Secured Area

Bldgs. 01305, 01306

Picatinny Arsenal

Dover Co: NJ 07806-5000

Landholding Agency: Army

Property Number: 21200230074

Status: Unutilized

Reasons: Within 2000 ft. of flammable or explosive material; Secured Area

Bldg. 01307

Picatinny Arsenal

Dover Co: NJ 07806-5000

Landholding Agency: Army

Property Number: 21200230075

Status: Unutilized

Reasons: Within 2000 ft. of flammable or explosive material; Secured Area

Holmdel Housing Site

Telegraph Hill Road

Holmdel Co: Monmouth NJ 07733-

Location: redetermination based on additional information from landholding agency

Landholding Agency: GSA

Property Number: 54200040005

Status: Excess

Reason: Within 2000 ft. of flammable or explosive material

GSA Number: 1-N-NJ-622

30 Bldgs.

Camp Charles Wood

Ft. Monmouth Co: Eatontown NJ

Landholding Agency: GSA

Property Number: 54200120008

Status: Excess

Reason: Within 2000 ft. of flammable or explosive material

GSA Number: 1-D-NJ-470f

Bldg. 188

Naval Air Engineering Station

Lakehurst Co: Ocean NJ 08733-5000

Landholding Agency: Navy

Property Number: 77199830065

Status: Unutilized

Reason: Extensive deterioration

Bldg. 473

Naval Air Engineering Station

Lakehurst Co: Ocean NJ 08733-5000

Landholding Agency: Navy

Property Number: 77199920024

Status: Unutilized

Reason: Extensive deterioration

New Mexico

Bldg. N149

Naval Air Warfare

White Sands Co: NM 88002-

Landholding Agency: Navy

Property Number: 77200110104

Status: Excess

Reason: Extensive deterioration

New York

Middle Marker

Wind Shear Site

31st Ave & 75th St

Jackson Heights Co: Queens NY 11434-

Landholding Agency: GSA

Property Number: 54200210004

Status: Surplus

Reason: Extensive deterioration

GSA Number: 1-U-NY-889

North Carolina

Bldg. AS-4040

Marine Corps Air Station

New River Co: NC

Landholding Agency: Navy

Property Number: 77200210039

Status: Underutilized

Reason: Secured Area

Oregon

Bldg. 30

Naval Weapons Systems Training

Boardman Co: Morrow OR

Landholding Agency: Navy

Property Number: 77200210070

Status: Unutilized

Reason: Secured Area

Bldg. 31

Naval Weapons Systems Training

Boardman Co: Morrow OR

Landholding Agency: Navy

Property Number: 77200210071

Status: Unutilized

Reason: Secured Area

Bldg. 32

Naval Weapons Systems Training

Boardman Co: Morrow OR

Landholding Agency: Navy

Property Number: 77200210072

Status: Unutilized

Reason: Secured Area

Bldg. 33

Naval Weapons Systems Training

Boardman Co: Morrow OR

Landholding Agency: Navy

Property Number: 77200210073

Status: Unutilized

Reason: Secured Area

Bldg. 35

Naval Weapons Systems Training

Boardman Co: Morrow OR

Landholding Agency: Navy

Property Number: 77200210074

Status: Unutilized

Reason: Secured Area

Bldg. 37

Naval Weapons Systems Training

Boardman Co: Morrow OR

Landholding Agency: Navy

Property Number: 77200210075

Status: Unutilized

Reason: Secured Area

Pennsylvania

Bldg. 43

Naval Foundry & Propeller Center

Philadelphia Co: PA 19112-

Landholding Agency: Navy

Property Number: 77200210015

Status: Excess

Reason: Extensive deterioration

Bldg. 53

Naval Foundry & Propeller Center

Philadelphia Co: PA 19112-

Landholding Agency: Navy

Property Number: 77200210016

Status: Excess

Reason: Extensive deterioration

Bldg. 483

Naval Surface Warfare Center

Philadelphia Co: PA 19111-2

Landholding Agency: Navy

Property Number: 77200210082

Status: Excess

Reason: Within 2000 ft. of flammable or explosive material

Bldg. 530

Naval Surface Warfare Center

Philadelphia Co: PA 19112-

Landholding Agency: Navy

Property Number: 77200210083

Status: Excess

Reason: Within 2000 ft. of flammable or explosive material

Bldg. 615

Naval Surface Warfare Center

Philadelphia Co: PA 19112-

Landholding Agency: Navy

Property Number: 77200210084

Status: Excess

Reason: Within 2000 ft. of flammable or explosive material

Bldg. 618

Naval Surface Warfare Center

Philadelphia Co: PA 19112-

Landholding Agency: Navy

Property Number: 77200210085

Status: Excess

Reason: Within 2000 ft. of flammable or explosive material

Bldg. 743

Naval Surface Warfare Center

Philadelphia Co: PA 19112-

Landholding Agency: Navy

Property Number: 77200210086

Status: Excess

Reason: Within 2000 ft. of flammable or explosive material

Bldg. 13

Naval Support Activity

Mechanicsburg Co: Cumberland PA 17055-0788

Landholding Agency: Navy

Property Number: 77200220014

Status: Excess

Reason: Extensive deterioration

Bldg. 311

Naval Support Activity

Mechanicsburg Co: Cumberland PA 17055-0788

Landholding Agency: Navy

Property Number: 77200220015

Status: Excess

Reason: Extensive deterioration

Bldg. 608-C

Naval Support Activity

Mechanicsburg Co: Cumberland PA 17055-0788

Landholding Agency: Navy

Property Number: 77200220016

Status: Excess

Reason: Extensive deterioration

Puerto Rico

Culebrita Island Lighthouse

Culebra Island Co: PR

Landholding Agency: GSA

Property Number: 54200210021

Status: Surplus

Reason: inaccessible

GSA Number: 1-T-PR-509

B-38

Naval Station Roosevelt Roads

Ceiba PR 00735-

Landholding Agency: Navy

Property Number: 77199830075

Status: Unutilized

Reason: Extensive deterioration

Rhode Island

Bldg. 52

Gould Island, Naval Station

Newport Co: RI 00000-

Landholding Agency: Navy

Property Number: 77199930020

Status: Excess

Reasons: Not accessible by road; Extensive deterioration

South Carolina

Bldg. 49

Naval Public Works Center

Goose Creek Co: Berkeley SC 29445-

Landholding Agency: Navy

Property Number: 77200020062

Status: Unutilized

Reasons: Secured Area; Extensive deterioration

Bldg. 7

Naval Weapons Station

Goose Creek Co: Berkeley SC 29445-

Landholding Agency: Navy

Property Number: 77200040030

Status: Unutilized

Reason: Secured Area

Bldg. 314

Naval Weapons Station

Goose Creek Co: Berkeley SC 29445-

Landholding Agency: Navy

Property Number: 77200040031

Status: Unutilized

Reason: Secured Area

16 Bldgs.

Naval Weapons Station

Goose Creek Co: Berkeley SC 29445-

Location: 294, 297, 316, 319, 710, 991, 3510, 3534, 3542, 3550, 3590, 3580, 3582, 3584, 3588, 3592

Landholding Agency: Navy

Property Number: 77200210106

Status: Excess

Reasons: Within 2000 ft. of flammable or explosive material; Secured Area

Tennessee

22 Bldgs.

Volunteer Army Ammunition Plant

Warehouses (Southern Portion)

Chattanooga Co: Hamilton TN 37421-

Landholding Agency: GSA

Property Number: 54199930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reasons: Within 2000 ft. of flammable or explosive material; contamination

GSA Number: 4-D-TN-594F

41 Facilities

Volunteer Army Ammunition Plant

TNT Production

Chattanooga Co: Hamilton TN 37421-

Landholding Agency: GSA

Property Number: 54199930018

Status: Surplus

Reason: contamination

GSA Number: 4-D-TN-594F

5 Facilities

Volunteer Army Ammunition Plant

Waste Water Treatment

Chattanooga Co: Hamilton TN 37421-

Landholding Agency: GSA

Property Number: 54199930019

Status: Surplus

Reason: Extensive deterioration

GSA Number: 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Army Reserve Center #2

360 Ornamental Metal Museum Dr.

Memphis Co: Shelby TN 38106-

Landholding Agency: GSA

Property Number: 54200120004

Status: Surplus

Reasons: Within 2000 ft. of flammable or explosive material; Extensive deterioration

GSA Number: 4-D-TN-0650

20 Bldgs.

Naval Support Activity

Millington Co: Shelby TN 38054-

Location: 766, 1597-1598, 5238, 435-446, S239, S75, 1211, 1379

Landholding Agency: Navy

Property Number: 77199940027

Status: Excess

Reasons: Secured Area; Extensive deterioration

6 Bldgs.

Naval Support Activity

#2003, 2016, 2024, 2025, 2076, 2077

Millington Co: TN 38054-

Landholding Agency: Navy

Property Number: 77200120013

Status: Excess

Reason: Secured Area

Bldg. R23-99

Naval Support Activity

Millington Co: TN 38054-

Landholding Agency: Navy

Property Number: 77200130104

Status: Excess

Reason: Secured Area

5 Bldgs.

Naval Support Activity

Millington Co: TN 38054-

Landholding Agency: Navy

Property Number: 77200130105

Status: Excess

Reason: Secured Area

23 Bldgs.

Naval Support Activity

Wherry Housing

Millington Co: TN 38054-

Location: 2004, 2019, 2021, 2023, 2026-2028, 2030, 2036, 2038, 2040, 2042, 2058, 2062, 2073, 2075, 2078, 2084, 2087, 2095, 2100, 2102, 2104

Landholding Agency: Navy

Property Number: 77200230042

Status: Excess

Reason: Secured Area

Texas

Bldgs. 1561, 1562, 1563

Naval Air Station Joint Reserve Base

Ft. Worth Co: Tarrant TX 76127-6200

Landholding Agency: Navy

Property Number: 77199820050

Status: Unutilized

Reasons: Secured Area; Extensive deterioration

Bldg. 1190

Naval Air Station Joint Reserve Base

Ft. Worth Co: Tarrant TX 76127-6200

Landholding Agency: Navy

Property Number: 77199820053

Status: Unutilized

Reason: Secured Area

Bldg. 1820

Naval Air Station Joint Reserve Base

Ft. Worth Co: Tarrant TX 76127-6200

Landholding Agency: Navy

Property Number: 77199820054

Status: Unutilized

Reasons: Secured Area; Extensive deterioration

Bldg. 1504

Naval Air Station

Joint Reserve Base

Ft. Worth Co: Tarrant TX 76127-6200

Landholding Agency: Navy

Property Number: 77200110018

Status: Unutilized

Reason: Extensive deterioration

Facility 119

Naval Air Station

Corpus Christi Co: Nueces TX 78419-5021

Landholding Agency: Navy

Property Number: 77200110047

Status: Excess

Reasons: Within airport runway clear zone; Secured Area; Extensive deterioration

Bldg. 1149

Naval Air Station

Ft. Worth Co: Tarrant TX 76127-6200

Landholding Agency: Navy

Property Number: 77200120014

Status: Unutilized

Reason: Extensive deterioration

Bldg. 4200

Naval Air Station

Ft. Worth Co: Tarrant TX 76127-6200

Landholding Agency: Navy

Property Number: 77200120015

Status: Unutilized

Reason: Extensive deterioration

Bldg. 1173

Naval Air Station

Ft. Worth Co: Tarrant TX 76127-6200

Landholding Agency: Navy

Property Number: 77200120016

Status: Unutilized

Reason: Extensive deterioration

Bldg. 1268

Naval Air Station

Ft. Worth Co: Tarrant TX 76127-6200

Landholding Agency: Navy

Property Number: 77200120017

Status: Unutilized

Reason: Extensive deterioration

Bldg. 1837

Naval Air Station

Ft. Worth Co: Tarrant TX 76127-6200

Landholding Agency: Navy

Property Number: 77200120018

Status: Unutilized

Reason: Extensive deterioration

Bldg. 1346

Naval Air Station

Ft. Worth Co: Tarrant TX 76127-

Landholding Agency: Navy

Property Number: 77200120156

Status: Excess

Reasons: Secured Area; Extensive deterioration

Facility 16

Naval Air Station

Corpus Christi Co: Nueces TX 78419-5021

Landholding Agency: Navy

Property Number: 77200130085

Status: Excess

Reason: Extensive deterioration

Facility 23

Naval Air Station

Corpus Christi Co: Nueces TX 78419-5021

Landholding Agency: Navy

Property Number: 77200130086

Status: Excess

Reason: Extensive deterioration

Facility 32

Naval Air Station

Corpus Christi Co: Nueces TX 78419-5021

Landholding Agency: Navy

Property Number: 77200130087

Status: Excess

Reason: Extensive deterioration

Facility 52A

Naval Air Station

Corpus Christi Co: Nueces TX 78419-5021

Landholding Agency: Navy

Property Number: 77200130088

Status: Excess

Reason: Extensive deterioration

Facility 52B

Naval Air Station

Corpus Christi Co: Nueces TX 78419-5021

Landholding Agency: Navy

Property Number: 77200130089

Status: Excess

Reason: Extensive deterioration

Facility 52C

Naval Air Station

Corpus Christi Co: Nueces TX 78419-5021

Landholding Agency: Navy

Property Number: 77200130090

Status: Excess

Reason: Extensive deterioration

Facility 52D

Naval Air Station

Corpus Christi Co: Nueces TX 78419-5021

Landholding Agency: Navy

Property Number: 77200130091

Status: Excess

Reason: Extensive deterioration

Facility 52E

Naval Air Station

Corpus Christi Co: Nueces TX 78419-5021

Landholding Agency: Navy

Property Number: 77200130092

Status: Excess

Reason: Extensive deterioration

Facility 168

Naval Air Station

Corpus Christi Co: Nueces TX 78419-5021

Landholding Agency: Navy

Property Number: 77200130093

Status: Excess

Reason: Extensive deterioration

Facility 306

Naval Air Station

Corpus Christi Co: Nueces TX 78419-5021

Landholding Agency: Navy

Property Number: 77200130094

Status: Excess

Reason: Extensive deterioration

Facility 330

Naval Air Station

Corpus Christi Co: Nueces TX 78419-5021

Landholding Agency: Navy

Property Number: 77200130095

Status: Excess

Reason: Extensive deterioration

Facility 372

Naval Air Station

Corpus Christi Co: Nueces TX 78419-5021

Landholding Agency: Navy

Property Number: 77200130096

Status: Excess

Reason: Extensive deterioration

Facility 383

Naval Air Station

Corpus Christi Co: Nueces TX 78419-5021

Landholding Agency: Navy

Property Number: 77200130097

Status: Excess

Reason: Extensive deterioration

Facility 1233

Naval Air Station

Corpus Christi Co: Nueces TX 78419-5021

Landholding Agency: Navy

Property Number: 77200130098

Status: Excess

Reason: Extensive deterioration

Facility 3589

Naval Air Station

Corpus Christi Co: Nueces TX 78419-5021

Landholding Agency: Navy

Property Number: 77200130099

Status: Excess

Reason: Extensive deterioration

Bldg. 1298

Naval Air Station

Corpus Christi Co: Nueces TX 78419-5021

Landholding Agency: Navy

Property Number: 77200130100

Status: Excess

Reason: Extensive deterioration

Bldg. 1825

Naval Air Station

Ft. Worth Co: Tarrant TX 76127-

Landholding Agency: Navy

Property Number: 77200220025

Status: Unutilized

Reasons: Secured Area; Extensive deterioration

Bldgs. 262 & 263

Naval Air Station

Ft. Worth Co: Tarrant TX 76127-

Landholding Agency: Navy

Property Number: 77200220026

Status: Unutilized

Reasons: Secured Area; Extensive deterioration

Virginia

Bldg. O2

Naval Weapons Station

Yorktown Co: York VA 23691-

Landholding Agency: Navy

Property Number: 77199810073

Status: Excess

Reason: Extensive deterioration

Bldgs. 358, 359

Cheatham Annex

Williamsburg VA 23185-

Landholding Agency: Navy

Property Number: 77199820023

Status: Excess

Reason: Extensive deterioration

Bldg. CAD-102

Cheatham Annex

Williamsburg VA 23185-

Landholding Agency: Navy

Property Number: 77199820025

Status: Excess

Reason: Extensive deterioration

Bldg. CAD-102A

Cheatham Annex

Williamsburg VA 23185-

Landholding Agency: Navy

Property Number: 77199820026

Status: Excess

Reason: Extensive deterioration

CAD-40

Cheatham Annex

Williamsburg VA 23185-

Landholding Agency: Navy

Property Number: 77199830084

Status: Unutilized

Reasons: Secured Area; Extensive deterioration

Bldg. 449

Norfolk Naval Shipyard

Portsmouth Co: VA 23709-

Landholding Agency: Navy

Property Number: 77199920068

Status: Excess

Reason: Extensive deterioration

Bldg. 450

Norfolk Naval Shipyard

Portsmouth Co: VA 23709-

Landholding Agency: Navy

Property Number: 77199920069

Status: Excess

Reason: Extensive deterioration

Bldg. 451

Norfolk Naval Shipyard

Portsmouth Co: VA 23709-

Landholding Agency: Navy

Property Number: 77199920070

Status: Excess

Reason: Extensive deterioration

Bldg. 453

Norfolk Naval Shipyard

Portsmouth Co: VA 23709-

Landholding Agency: Navy

Property Number: 77199920071

Status: Excess

Reason: Extensive deterioration

Bldg. 454

Norfolk Naval Shipyard

Portsmouth Co: VA 23709-

Landholding Agency: Navy

Property Number: 77199920072

Status: Excess

Reason: Extensive deterioration

Bldg. 708

Norfolk Naval Shipyard

Portsmouth Co: VA 23709-

Landholding Agency: Navy

Property Number: 77199920073

Status: Excess

Reason: Extensive deterioration

Bldg. 709

Norfolk Naval Shipyard

Portsmouth Co: VA 23709-

Landholding Agency: Navy

Property Number: 77199920074

Status: Excess

Reason: Extensive deterioration

Bldg. 710

Norfolk Naval Shipyard

Portsmouth Co: VA 23709-

Landholding Agency: Navy

Property Number: 77199920075

Status: Excess

Reason: Extensive deterioration

Bldg. 711

Norfolk Naval Shipyard

Portsmouth Co: VA 23709-

Landholding Agency: Navy

Property Number: 77199920076

Status: Excess

Reason: Extensive deterioration

Bldg. 712

Norfolk Naval Shipyard

Portsmouth Co: VA 23709-

Landholding Agency: Navy

Property Number: 77199920077

Status: Excess

Reason: Extensive deterioration

Bldg. 713

Norfolk Naval Shipyard

Portsmouth Co: VA 23709-

Landholding Agency: Navy

Property Number: 77199920078

Status: Excess

Reason: Extensive deterioration

Bldg. 714

Norfolk Naval Shipyard

Portsmouth Co: VA 23709-

Landholding Agency: Navy

Property Number: 77199920079

Status: Excess

Reason: Extensive deterioration

Bldg. 715

Norfolk Naval Shipyard

Portsmouth Co: VA 23709-

Landholding Agency: Navy

Property Number: 77199920080

Status: Excess

Reason: Extensive deterioration

Bldg. 716

Norfolk Naval Shipyard

Portsmouth Co: VA 23709-

Landholding Agency: Navy

Property Number: 77199920081

Status: Excess

Reason: Extensive deterioration

Bldg. 717

Norfolk Naval Shipyard

Portsmouth Co: VA 23709-

Landholding Agency: Navy

Property Number: 77199920082

Status: Excess

Reason: Extensive deterioration

Bldg. 718

Norfolk Naval Shipyard

Portsmouth Co: VA 23709-

Landholding Agency: Navy

Property Number: 77199920083

Status: Excess

Reason: Extensive deterioration

Bldg. 1454

Norfolk Naval Shipyard

Portsmouth Co: VA 23709-

Landholding Agency: Navy

Property Number: 77199920084

Status: Excess

Reason: Extensive deterioration

Bldg. 7

Naval Weapons Station

Yorktown Co: VA 23691-

Landholding Agency: Navy

Property Number: 77200020009

Status: Unutilized

Reasons: Within 2000 ft. of flammable or explosive material; Secured Area

Bldg. 12

Naval Weapons Station

Yorktown Co: VA 23691—

Landholding Agency: Navy

Property Number: 77200020010

Status: Unutilized

Reasons: Within 2000 ft. of flammable or explosive material; Secured Area; Extensive deterioration

Bldg. 24

Naval Weapons Station

Yorktown Co: VA 23691-

Landholding Agency: Navy

Property Number: 77200020011

Status: Unutilized

Reasons: Within 2000 ft. of flammable or explosive material; Secured Area

Bldg. 34

Naval Weapons Station

Yorktown Co: VA 23691-

Landholding Agency: Navy

Property Number: 77200020012

Status: Unutilized

Reasons: Within 2000 ft. of flammable or explosive material; Secured Area; Extensive deterioration

Bldg. 108

Naval Weapons Station

Yorktown Co: VA 23691-

Landholding Agency: Navy

Property Number: 77200020013

Status: Unutilized

Reasons: Within 2000 ft. of flammable or explosive material; Secured Area; Extensive deterioration

Bldg. 299

Naval Weapons Station

Yorktown Co: VA 23691-

Landholding Agency: Navy

Property Number: 77200020014

Status: Unutilized

Reasons: Within 2000 ft. of flammable or explosive material; Secured Area; Extensive deterioration

Bldg. 400

Naval Weapons Station

Yorktown Co: VA 23691-

Landholding Agency: Navy

Property Number: 77200020015

Status: Unutilized

Reasons: Within 2000 ft. of flammable or explosive material; Secured Area; Extensive deterioration

Bldg. 436

Naval Weapons Station

Yorktown Co: VA 23691-

Landholding Agency: Navy

Property Number: 77200020016

Status: Unutilized

Reasons: Within 2000 ft. of flammable or explosive material; Secured Area; Extensive deterioration

Bldgs. 442, 443

Naval Weapons Station

Yorktown Co: VA 23691-

Landholding Agency: Navy

Property Number: 77200020017

Status: Unutilized

Reasons: Within 2000 ft. of flammable or explosive material; Secured Area; Extensive deterioration

Bldg. 530

Naval Weapons Station

Yorktown Co: VA 23691-

Landholding Agency: Navy

Property Number: 77200020018

Status: Unutilized

Reasons: Within 2000 ft. of flammable or explosive material; Secured Area; Extensive deterioration

Bldg. 532

Naval Weapons Station

Yorktown Co: VA 23691-

Landholding Agency: Navy

Property Number: 77200020019

Status: Unutilized

Reasons: Within 2000 ft. of flammable or explosive material; Secured Area; Extensive deterioration

Bldgs. 646-651

Naval Weapons Station

Yorktown Co: VA 23691-

Landholding Agency: Navy

Property Number: 77200020020

Status: Unutilized

Reasons: Within 2000 ft. of flammable or explosive material; Secured Area; Extensive deterioration

Bldgs. 758, 759

Naval Weapons Station

Yorktown Co: VA 23691-

Landholding Agency: Navy

Property Number: 77200020021

Status: Unutilized

Reasons: Within 2000 ft. of flammable or explosive material; Secured Area; Extensive deterioration

Bldg. 764

Naval Weapons Station

Yorktown Co: VA 23691-

Landholding Agency: Navy

Property Number: 77200020022

Status: Unutilized

Reasons: Within 2000 ft. of flammable or explosive material; Secured Area; Extensive deterioration

Bldg. 784

Naval Weapons Station

Yorktown Co: VA 23691-

Landholding Agency: Navy

Property Number: 77200020023

Status: Unutilized

Reasons: Within 2000 ft. of flammable or explosive material; Secured Area; Extensive deterioration

Bldg. 786

Naval Weapons Station Yorktown

Yorktown Co: VA 23691-

Landholding Agency: Navy

Property Number: 77200020024

Status: Unutilized

Reasons: Within 2000 ft. of flammable or explosive material; Secured Area; Extensive deterioration

Bldg. 788

Naval Weapons Station

Yorktown Co: VA 23691-

Landholding Agency: Navy

Property Number: 77200020025

Status: Unutilized

Reasons: Within 2000 ft. of flammable or explosive material; Secured Area; Extensive deterioration

Bldg. 790

Naval Weapons Station

Yorktown Co: VA 23691-

Landholding Agency: Navy

Property Number: 77200020026

Status: Unutilized

Reasons: Within 2000 ft. of flammable or explosive material; Secured Area; Extensive deterioration

Bldg. 814

Naval Weapons Station

Yorktown Co: VA 23691-

Landholding Agency: Navy

Property Number: 77200020027

Status: Unutilized

Reasons: Within 2000 ft. of flammable or explosive material; Secured Area; Extensive deterioration

Bldgs. 1955-1957

Naval Weapons Station

Yorktown Co: VA 23691-

Landholding Agency: Navy

Property Number: 77200020028

Status: Unutilized

Reasons: Within 2000 ft. of flammable or explosive material; Secured Area; Extensive deterioration

Bldgs. 1960, 1961, 1964

Naval Weapons Station

Yorktown Co: VA 23691-

Landholding Agency: Navy

Property Number: 77200020029

Status: Unutilized

Reasons: Within 2000 ft. of flammable or explosive material; Secured Area; Extensive deterioration

Bldgs. 1980, 1981

Naval Weapons Station

Yorktown Co: VA 23691-

Landholding Agency: Navy

Property Number: 77200020030

Status: Unutilized

Reasons: Within 2000 ft. of flammable or explosive material; Secured Area; Extensive deterioration

Bldg. 160

Cheatham Annex

Williamsburg Co: VA 23185-5830

Landholding Agency: Navy

Property Number: 77200020031

Status: Unutilized

Reasons: Secured Area; Extensive deterioration

Bldg. 1453

Norfolk Naval Shipyard

Portsmouth Co: VA 23709-5000

Landholding Agency: Navy

Property Number: 77200020063

Status: Unutilized

Reasons: Secured Area; Extensive deterioration

Bldg. 13

Naval Weapons Station

Yorktown Co: VA 23691-

Landholding Agency: Navy

Property Number: 77200120024

Status: Excess

Reasons: Within 2000 ft. of flammable or explosive material; Secured Area; Extensive deterioration

Bldg. 14

Naval Weapons Station

Yorktown Co: VA 23691-

Landholding Agency: Navy

Property Number: 77200120025

Status: Excess

Reasons: Within 2000 ft. of flammable or explosive material; Secured Area; Extensive deterioration

Bldg. 22

Naval Weapons Station

Yorktown Co: VA 23691-

Landholding Agency: Navy

Property Number: 77200120026

Status: Excess

Reasons: Within 2000 ft. of flammable or explosive material; Secured Area; Extensive deterioration

Bldg. 23

Naval Weapons Station

Yorktown Co: VA 23691-

Landholding Agency: Navy

Property Number: 77200120027

Status: Excess

Reasons: Within 2000 ft. of flammable or explosive material; Secured Area; Extensive deterioration

Bldg. 70

Naval Weapons Station

Yorktown Co: VA 23691-

Landholding Agency: Navy

Property Number: 77200120028

Status: Excess

Reasons: Within 2000 ft. of flammable or explosive material; Secured Area; Extensive deterioration

Bldg. 87

Naval Weapons Station

Yorktown Co: VA 23691-

Landholding Agency: Navy

Property Number: 77200120029

Status: Excess

Reasons: Within 2000 ft. of flammable or explosive material; Secured Area; Extensive deterioration

Bldg. 88

Naval Weapons Station

Yorktown Co: VA 23691-

Landholding Agency: Navy

Property Number: 77200120030

Status: Excess

Reasons: Within 2000 ft. of flammable or explosive material; Secured Area; Extensive deterioration

Bldg. 118

Naval Weapons Station

Yorktown Co: VA 23691-

Landholding Agency: Navy

Property Number: 77200120031

Status: Excess

Reasons: Within 2000 ft. of flammable or explosive material; Secured Area; Extensive deterioration

Bldg. 385

Naval Weapons Station

Yorktown Co: VA 23691-

Landholding Agency: Navy

Property Number: 77200120032

Status: Excess

Reasons: Within 2000 ft. of flammable or explosive material; Secured Area; Extensive deterioration

Bldg. 396A

Naval Weapons Station

Yorktown Co: VA 23691-

Landholding Agency: Navy

Property Number: 77200120033

Status: Excess

Reasons: Within 2000 ft. of flammable or explosive material; Secured Area; Extensive deterioration

Bldg. 492

Naval Weapons Station

Yorktown Co: VA 23691-

Landholding Agency: Navy

Property Number: 77200120034

Status: Excess

Reasons: Secured Area; Extensive deterioration

Bldg. 507

Naval Weapons Station

Yorktown Co: VA 23691-

Landholding Agency: Navy

Property Number: 77200120035

Status: Excess

Reasons: Within 2000 ft. of flammable or explosive material; Secured Area;

Bldg. 612

Naval Weapons Station

Yorktown Co: VA 23691-

Landholding Agency: Navy

Property Number: 77200120036

Status: Excess

Reasons: Within 2000 ft. of flammable or explosive material; Secured Area; Extensive deterioration

Bldg. 1224

Naval Weapons Station

Yorktown Co: VA 23691-

Landholding Agency: Navy

Property Number: 77200120037

Status: Excess

Reasons: Within 2000 ft. of flammable or explosive material; Secured Area; Extensive deterioration

Bldg. 1225

Naval Weapons Station

Yorktown Co: VA 23691-

Landholding Agency: Navy

Property Number: 77200120038

Status: Excess

Reasons: Within 2000 ft. of flammable or explosive material; Secured Area; Extensive deterioration

Bldg. 1226

Naval Weapons Station

Yorktown Co: VA 23691-

Landholding Agency: Navy

Property Number: 77200120039

Status: Excess

Reasons: Within 2000 ft. of flammable or explosive material; Secured Area; Extensive deterioration

Bldg. 1227

Naval Weapons Station

Yorktown Co: VA 23691-

Landholding Agency: Navy

Property Number: 77200120040

Status: Excess

Reasons: Within 2000 ft. of flammable or explosive material; Secured Area; Extensive deterioration

Bldg. 1228

Naval Weapons Station

Yorktown Co: VA 23691-

Landholding Agency: Navy

Property Number: 77200120041

Status: Excess

Reasons: Within 2000 ft. of flammable or explosive material; Secured Area; Extensive deterioration

Bldg. 1587

Naval Weapons Station

Yorktown Co: VA 23691-

Landholding Agency: Navy

Property Number: 77200120042

Status: Excess

Reasons: Within 2000 ft. of flammable or explosive material; Secured Area; Extensive deterioration

Bldg. 1588

Naval Weapons Station

Yorktown Co: VA 23691-

Landholding Agency: Navy

Property Number: 77200120043

Status: Excess

Reasons: Within 2000 ft. of flammable or explosive material; Secured Area; Extensive deterioration

Bldg. 1589

Naval Weapons Station

Yorktown Co: VA 23691-

Landholding Agency: Navy

Property Number: 77200120044

Status: Excess

Reasons: Within 2000 ft. of flammable or explosive material; Secured Area; Extensive deterioration

Bldg. 1590

Naval Weapons Station

Yorktown Co: VA 23691-

Landholding Agency: Navy

Property Number: 77200120045

Status: Excess

Reasons: Within 2000 ft. of flammable or explosive material; Secured Area; Extensive deterioration

Bldg. 1591

Naval Weapons Station

Yorktown Co: VA 23691-

Landholding Agency: Navy

Property Number: 77200120046

Status: Excess

Reasons: Within 2000 ft. of flammable or explosive material; Secured Area; Extensive deterioration

Bldg. 1612

Naval Weapons Station

Yorktown Co: VA 23691-

Landholding Agency: Navy

Property Number: 77200120047

Status: Excess

Reasons: Secured Area; Extensive deterioration

Structure 1743

Naval Weapons Station

Yorktown Co: VA 23691-

Landholding Agency: Navy

Property Number: 77200120048

Status: Excess

Reasons: Within 2000 ft. of flammable or explosive material; Secured Area; Extensive deterioration

Bldg. 103B

Naval Weapons Station

Yorktown Co: VA 23691-

Landholding Agency: Navy

Property Number: 77200120049

Status: Excess

Reasons: Secured Area; Extensive deterioration

Bldg. B109

Naval Surface Warfare Center

Dahlgren Co: King George VA 22448-

Landholding Agency: Navy

Property Number: 77200120050

Status: Unutilized

Reason: Extensive deterioration

Bldg. B112

Naval Surface Warfare Center

Dahlgren Co: King George VA 22448-

Landholding Agency: Navy

Property Number: 77200120051

Status: Unutilized

Reason: Extensive deterioration

Bldg. 123

Naval Surface Warfare Center

Dahlgren Co: King George VA 22448-

Landholding Agency: Navy

Property Number: 77200120052

Status: Unutilized

Reason: Extensive deterioration

Bldg. B132

Naval Surface Warfare Center

Dahlgren Co: King George VA 22448-

Landholding Agency: Navy

Property Number: 77200120053

Status: Unutilized

Reason: Extensive deterioration

Bldg. B157

Naval Surface Warfare Center

Dahlgren Co: King George VA 22448-

Landholding Agency: Navy

Property Number: 77200120054

Status: Unutilized

Reason: Extensive deterioration

Bldg. 170A

Naval Surface Warfare Center

Dahlgren Co: King George VA 22448-

Landholding Agency: Navy

Property Number: 77200120055

Status: Unutilized

Reason: Extensive deterioration

Bldg. B239

Naval Surface Warfare Center

Dahlgren Co: King George VA 22448-

Landholding Agency: Navy

Property Number: 77200120056

Status: Unutilized

Reason: Extensive deterioration

Bldg. B362

Naval Surface Warfare Center

Dahlgren Co: King George VA 22448-

Landholding Agency: Navy

Property Number: 77200120057

Status: Unutilized

Reason: Extensive deterioration

Bldg. B396

Naval Surface Warfare Center

Dahlgren Co: King George VA 22448-

Landholding Agency: Navy

Property Number: 77200120058

Status: Unutilized

Reason: Extensive deterioration

Bldg. B402

Naval Surface Warfare Center

Dahlgren Co: King George VA 22448-

Landholding Agency: Navy

Property Number: 77200120059

Status: Unutilized

Reason: Extensive deterioration

Bldg. B425

Naval Surface Warfare Center

Dahlgren Co: King George VA 22448-

Landholding Agency: Navy

Property Number: 77200120060

Status: Unutilized

Reason: Extensive deterioration

Bldg. B428

Naval Surface Warfare Center

Dahlgren Co: King George VA 22448-

Landholding Agency: Navy

Property Number: 77200120061

Status: Unutilized

Reason: Extensive deterioration

Bldg. B451

Naval Surface Warfare Center

Dahlgren Co: King George VA 22448-

Landholding Agency: Navy

Property Number: 77200120062

Status: Unutilized

Reason: Extensive deterioration

Bldg. B465

Naval Surface Warfare Center

Dahlgren Co: King George VA 22448-

Landholding Agency: Navy

Property Number: 77200120063

Status: Unutilized

Reason: Extensive deterioration

Bldg. B1100

Naval Surface Warfare Center

Dahlgren Co: King George VA 22448-

Landholding Agency: Navy

Property Number: 77200120064

Status: Unutilized

Reason: Extensive deterioration

Bldg. B1124

Naval Surface Warfare Center

Dahlgren Co: King George VA 22448-

Landholding Agency: Navy

Property Number: 77200120065

Status: Unutilized

Reason: Extensive deterioration

Bldg. B9411

Naval Surface Warfare Center

Dahlgren Co: King George VA 22448-

Landholding Agency: Navy

Property Number: 77200120066

Status: Unutilized

Reason: Extensive deterioration

Bldg. B9429

Naval Surface Warfare Center

Dahlgren Co: King George VA 22448-

Landholding Agency: Navy

Property Number: 77200120067

Status: Unutilized

Reason: Extensive deterioration

Tracks

Naval Surface Warfare Center

Dahlgren Co: King George VA 22448-

Landholding Agency: Navy

Property Number: 77200120068

Status: Unutilized

Reason: Extensive deterioration

Bldg. B107

Naval Surface Warfare Center

Dahlgren Co: King George VA 22448-5100

Landholding Agency: Navy

Property Number: 77200130045

Status: Unutilized

Reason: Extensive deterioration

Bldg. B153

Naval Surface Warfare Center

Dahlgren Co: King George VA 22448-

Landholding Agency: Navy

Property Number: 77200130046

Status: Unutilized

Reason: Extensive deterioration

Bldg. B166

Naval Surface Warfare Center

Dahlgren Co: King George VA 22448-

Landholding Agency: Navy

Property Number: 77200130047

Status: Unutilized

Reason: Extensive deterioration

Bldg. B167

Naval Surface Warfare Center

Dahlgren Co: King George VA 22448-

Landholding Agency: Navy

Property Number: 77200130048

Status: Unutilized

Reason: Extensive deterioration

Bldg. B185T

Naval Surface Warfare Center

Dahlgren Co: King George VA 22448-

Landholding Agency: Navy

Property Number: 77200130049

Status: Unutilized

Reason: Extensive deterioration

Bldg. B196

Naval Surface Warfare Center

Dahlgren Co: King George VA 22448-

Landholding Agency: Navy

Property Number: 77200130050

Status: Unutilized

Reason: Extensive deterioration

Bldg. B244

Naval Surface Warfare Center

Dahlgren Co: King George VA 22448-

Landholding Agency: Navy

Property Number: 77200130051

Status: Unutilized

Reason: Extensive deterioration

Bldg. B284

Naval Surface Warfare Center

Dahlgren Co: King George VA 22448-

Landholding Agency: Navy

Property Number: 77200130052

Status: Unutilized

Reason: Extensive deterioration

Bldg. B299

Naval Surface Warfare Center

Dahlgren Co: King George VA 22448-

Landholding Agency: Navy

Property Number: 77200130053

Status: Unutilized

Reason: Extensive deterioration

Bldg. B313

Naval Surface Warfare Center

Dahlgren Co: King George VA 22448-

Landholding Agency: Navy

Property Number: 77200130054

Status: Unutilized

Reason: Extensive deterioration

Bldg. B347

Naval Surface Warfare Center

Dahlgren Co: King George VA 22448-

Landholding Agency: Navy

Property Number: 77200130055

Status: Unutilized

Reason: Extensive deterioration

Bldg. B360

Naval Surface Warfare Center

Dahlgren Co: King George VA 22448-

Landholding Agency: Navy

Property Number: 77200130056

Status: Unutilized

Reason: Extensive deterioration

Bldg. B410

Naval Surface Warfare Center

Dahlgren Co: King George VA 22448-

Landholding Agency: Navy

Property Number: 77200130057

Status: Unutilized

Reason: Extensive deterioration

Bldg. B416

Naval Surface Warfare Center

Dahlgren Co: King George VA 22448-

Landholding Agency: Navy

Property Number: 77200130058

Status: Unutilized

Reason: Extensive deterioration

Bldg. B430

Naval Surface Warfare Center

Dahlgren Co: King George VA 22448-

Landholding Agency: Navy

Property Number: 77200130059

Status: Unutilized

Reason: Extensive deterioration

Bldg. B993

Naval Surface Warfare Center

Dahlgren Co: King George VA 22448-

Landholding Agency: Navy

Property Number: 77200130060

Status: Unutilized

Reason: Extensive deterioration

Bldg. B1119

Naval Surface Warfare Center

Dahlgren Co: King George VA 22448-

Landholding Agency: Navy

Property Number: 77200130061

Status: Unutilized

Reason: Extensive deterioration

Bldg. B1299

Naval Surface Warfare Center

Dahlgren Co: King George VA 22448-

Landholding Agency: Navy

Property Number: 77200130062

Status: Unutilized

Reason: Extensive deterioration

Bldg. B1350

Naval Surface Warfare Center

Dahlgren Co: King George VA 22448-

Landholding Agency: Navy

Property Number: 77200130063

Status: Unutilized

Reason: Extensive deterioration

Bldg. B1355

Naval Surface Warfare Center

Dahlgren Co: King George VA 22448-

Landholding Agency: Navy

Property Number: 77200130064

Status: Unutilized

Reason: Extensive deterioration

Bldg. B1376

Naval Surface Warfare Center

Dahlgren Co: King George VA 22448-

Landholding Agency: Navy

Property Number: 77200130065

Status: Unutilized

Reason: Extensive deterioration

Bldg. B1379

Naval Surface Warfare Center

Dahlgren Co: King George VA 22448-

Landholding Agency: Navy

Property Number: 77200130066

Status: Unutilized

Reason: Extensive deterioration

Bldg. B1383

Naval Surface Warfare Center

Dahlgren Co: King George VA 22448-

Landholding Agency: Navy

Property Number: 77200130067

Status: Unutilized

Reason: Extensive deterioration

Bldg. B1386

Naval Surface Warfare Center

Dahlgren Co: King George VA 22448-

Landholding Agency: Navy

Property Number: 77200130068

Status: Unutilized

Reason: Extensive deterioration

Bldg. B9406

Naval Surface Warfare Center

Dahlgren Co: King George VA 22448-

Landholding Agency: Navy

Property Number: 77200130069

Status: Unutilized

Reason: Extensive deterioration

Bldg. 116

Marine Corps Base

Quantico Co: VA 22134

Landholding Agency: Navy

Property Number: 77200130101

Status: Unutilized

Reason: Extensive deterioration

Bldgs. 55, 3233

Marine Corps Base

Quantico Co: VA 22134

Landholding Agency: Navy

Property Number: 77200130115

Status: Excess

Reason: Extensive deterioration

Bldg. B260

Naval Surface Warfare Center

Dahlgren Co: King George VA 22448-5100

Landholding Agency: Navy

Property Number: 77200130116

Status: Unutilized

Reason: Extensive deterioration

Bldg. B452

Naval Surface Warfare Center

Dahlgren Co: King George VA 22448-

Landholding Agency: Navy

Property Number: 77200130117

Status: Unutilized

Reason: Extensive deterioration

Bldg. B1361

Naval Surface Warfare Center

Dahlgren Co: King George VA 22448-

Landholding Agency: Navy

Property Number: 77200130118

Status: Unutilized

Reason: Extensive deterioration

Bldg. B1360

Naval Surface Warfare Center

Dahlgren Co: King George VA 22448-

Landholding Agency: Navy

Property Number: 77200130119

Status: Unutilized

Reason: Extensive deterioration

Bldg. B1362

Naval Surface Warfare Center

Dahlgren Co: King George VA 22448-

Landholding Agency: Navy

Property Number: 77200130120

Status: Unutilized

Reason: Extensive deterioration

Bldg. B9409

Naval Surface Warfare Center

Dahlgren Co: King George VA 22448-

Landholding Agency: Navy

Property Number: 77200130121

Status: Unutilized

Reason: Extensive deterioration

Bldg. B9412

Naval Surface Warfare Center

Dahlgren Co: King George VA 22448-

Landholding Agency: Navy

Property Number: 77200130122

Status: Unutilized

Reason: Extensive deterioration

Bldg. B9436

Naval Surface Warfare Center

Dahlgren Co: King George VA 22448-5100

Landholding Agency: Navy

Property Number: 77200130123

Status: Unutilized

Reason: Extensive deterioration

Bldg. B9445

Naval Surface Warfare Ceneter

Dahlgren Co: King George VA 22448-5100

Landholding Agency: Navy

Property Number: 77200130124

Status: Unutilized

Reason: Extensive deterioration

Bldg. B9446

Naval Surface Warfare Center

Dahlgren Co: King George VA 22448-

Landholding Agency: Navy

Property Number: 77200130125

Status: Unutilized

Reason: Extensive deterioration

Bldg. B9461

Naval Surface Warfare Center

Dahlgren Co: King George VA 22448-

Landholding Agency: Navy

Property Number: 77200130126

Status: Unutilized

Reason: Extensive deterioration

Bldg. B9462

Naval Surface Warfare Center

Dahlgren Co: King George VA 22448-

Landholding Agency: Navy

Property Number: 77200130127

Status: Unutilized

Reason: Extensive deterioration

58 Housing Units

Marine Corps Base

Quantico Co: VA 22134-

Landholding Agency: Navy

Property Number: 77200210040

Status: Unutilized

Reason: Extensive deterioration

18 Housing Units

Marine Corps Base

Quantico Co: VA-

Landholding Agency: Navy

Property Number: 77200210041

Status: Unutilized

Reason: Extensive deterioration

8 Bldgs.

Marine Corps Base

#3220-3227

Quantico Co: VA 22134-

Landholding Agency: Navy

Property Number: 77200210062

Status: Excess

Reason: Extensive deterioration

6 Bldgs.

Marine Corps Base

2600A, 2604, 2631, 2664, 26123, 261512

Quantico Co: VA 22134-

Landholding Agency: Navy

Property Number: 77200210063

Status: Excess

Reason: Extensive deterioration

Bldg. SP-46

Naval Station

Norfolk Co: VA 23511-

Landholding Agency: Navy

Property Number: 77200220036

Status: Excess

Reason: Extensive deterioration

Bldg. SP-93

Naval Station

Norfolk Co: VA 23511-

Landholding Agency: Navy

Property Number: 77200220037

Status: Excess

Reason: Extensive deterioration

Bldg. U-40/Portion

Naval Station

Norfolk Co: VA

Landholding Agency: Navy

Property Number: 77200220040

Status: Excess

Reason: Extensive deterioration

Bldg. SP-63

Naval Station

Norfolk Co: VA -

Landholding Agency: Navy

Property Number: 77200220041

Status: Excess

Reason: Extensive deterioration

Bldg. SP-63A

Naval Station

Norfolk Co: VA -

Landholding Agency: Navy

Property Number: 77200220042

Status: Excess

Reason: Extensive deterioration

Bldg. A-67

Naval Station

Norfolk Co: VA -

Landholding Agency: Navy

Property Number: 77200220043

Status: Excess

Reason: Extensive deterioration

Bldg. U-124

Naval Station

Norfolk Co: VA -

Landholding Agency: Navy

Property Number: 77200220044

Status: Excess

Reason: Extensive deterioration

Bldg. CEP-213

Naval Station

Norfolk Co: VA -

Landholding Agency: Navy

Property Number: 77200220045

Status: Excess

Reason: Extensive deterioration

Bldg. 51

Naval Weapons Station

Yorktown Co: VA 23691-

Landholding Agency: Navy

Property Number: 77200220054

Status: Excess

Reasons: Within 2000 ft. of flammable or explosive material; Secured Area; Extensive deterioration

Bldg. 79

Naval Weapons Station

Yorktown Co: VA 23691-

Landholding Agency: Navy

Property Number: 77200220055

Status: Excess

Reasons: Within 2000 ft. of flammable or explosive material; Secured Area

Bldg. 89

Naval Weapons Station

Yorktown Co: VA 23691-

Landholding Agency: Navy

Property Number: 77200220056

Status: Excess

Reasons: Within 2000 ft. of flammable or explosive material; Secured Area

5 Bldgs.

Naval Weapons Station

#90, 91, 95, 96, 101

Yorktown Co: VA 23691-

Landholding Agency: Navy

Property Number: 77200220057

Status: Excess

Reasons: Within 2000 ft. of flammable or explosive material Secured Area; Extensive deterioration

Bldg. 119A

Naval Weapons Station

Yorktown Co: VA 23691-

Landholding Agency: Navy

Property Number: 77200220058

Status: Excess

Reasons: Within 2000 ft. of flammable or explosive material; Secured Area

Bldg. 378

Naval Weapons Station

Yorktown Co: VA 23691-

Landholding Agency: Navy

Property Number: 77200220059

Status: Excess

Reasons: Within 2000 ft. of flammable or explosive material; Secured Area

Bldg. 398

Naval Weapons Station

Yorktown Co: VA 23691-

Landholding Agency: Navy

Property Number: 77200220060

Status: Excess

Reasons: Within 2000 ft. of flammable or explosive material; Secured Area; Extensive deterioration

Bldg. 415

Naval Weapons Station

Yorktown Co: VA 23691-

Landholding Agency: Navy

Property Number: 77200220061

Status: Excess

Reasons: Within 2000 ft. of flammable or explosive material; Secured Area; Extensive deterioration

Bldgs. 440, 441

Naval Weapons Station

Yorktown Co: VA 23691-

Landholding Agency: Navy

Property Number: 77200220062

Status: Excess

Reasons: Within 2000 ft. of flammable or explosive material; Secured Area; Extensive deterioration

Bldg. 508

Naval Weapons Station

Yorktown Co: VA 23691-

Landholding Agency: Navy

Property Number: 77200220063

Status: Excess

Reasons: Within 2000 ft. of flammable or explosive material; Secured Area; Extensive deterioration

Bldg. 510

Naval Weapons Station

Yorktown Co: VA 23691-

Landholding Agency: Navy

Property Number: 77200220064

Status: Excess

Reasons: Within 2000 ft. of flammable or explosive material; Secured Area; Extensive deterioration

Bldg. 605

Naval Weapons Station

Yorktown Co: VA 23691-

Landholding Agency: Navy

Property Number: 77200220065

Status: Excess

Reasons: Within 2000 ft. of flammable or explosive material; Secured Area;

Bldg. 624

Naval Weapons Station

Yorktown Co: VA 23691-

Landholding Agency: Navy

Property Number: 77200220066

Status: Excess

Reasons: Within 2000 ft. of flammable or explosive material; Secured Area; Extensive deterioration

Bldg. 688

Naval Weapons Station

Yorktown Co: VA 23691-

Lanholding Agency: Navy

Property Number: 77200220067

Status: Excess

Reasons: Within 2000 ft. of flammable or explosive material; Secured Area

Bldgs. 1271, 1272, 1273

Naval Weapons Station

Yorktown Co: VA 23691-

Lanholding Agency: Navy

Property Number: 77200220068

Status: Excess

Reason: Secured Area

Bldgs. 1465, 1466

Naval Weapons Station

Yorktown Co: VA 23691-

Lanholding Agency: Navy

Property Number: 77200220069

Status: Excess

Reasons: Within 2000 ft. of flammable or explosive material; Secured Area

Bldgs. 1467, 1468, 1469

Naval Weapons Station

Yorktown Co: VA 23691-

Lanholding Agency: Navy

Property Number: 77200220070

Status: Excess

Reasons: Within 2000 ft. of flammable or explosive material; Secured Area

Bldg. 1799

Naval Weapons Station

Yorktown Co: VA 23691-

Lanholding Agency: Navy

Property Number: 77200220071

Status: Excess

Reasons: Within 2000 ft. of flammable or explosive material; Secured Area

Bldg. CAD40

Naval Weapons Station

Yorktown Co: VA 23691-

Lanholding Agency: Navy

Property Number: 77200220084

Status: Excess

Reason:Secured Area

Bldg. CAD41

Naval Weapons Station

Yorktown Co: VA 23691-

Lanholding Agency: Navy

Property Number: 77200220085

Status: Excess

Reason: Secured Area

Bldg. CAD479

Naval Weapons Station

Yorktown Co: VA 23691-

Lanholding Agency: Navy

Property Number: 77200220086

Status: Excess

Reason: Secured Area

Bldg. 108

Dam Neck Naval Base

Virginia Beach Co: VA 23461-

Lanholding Agency: Navy

Property Number: 77200220089

Status: Excess

Reason: Secured Area

Bldg. 150

Naval Air Station Oceana

Virginia Beach Co: VA 23461-

Lanholding Agency: Navy

Property Number: 77200220090

Status: Excess

Reason: Secured Area

Bldg. 413

Naval Air Station Oceana

Virginia Beach Co: VA 23461-

Lanholding Agency: Navy

Property Number: 77200220091

Status: Excess

Reason: Secured Area

Bldg. 422

Naval Air Station Oceana

Virginia Beach Co: VA 23461-

Lanholding Agency: Navy

Property Number: 77200220092

Status: Excess

Reason: Secured Area

Bldg. 501

Naval Air Station Oceana

Virginia Beach Co: VA 23461-

Lanholding Agency: Navy

Property Number: 77200220093

Status: Excess

Reason: Secured Area

Bldg. 528

Naval Air Station Oceana

Virginia Beach Co: VA 23461-

Lanholding Agency: Navy

Property Number: 77200220094

Status: Excess

Reason: Secured Area

Bldg. 553

Naval Air Station Oceana

Virginia Beach Co: VA 23461-

Lanholding Agency: Navy

Property Number: 77200220095

Status: Excess

Reason: Secured Area

Bldg. 557

Naval Air Station Oceana

Virginia Beach Co: VA 23461-

Lanholding Agency: Navy

Property Number: 77200220096

Status: Excess

Reason: Secured Area

Bldg. 565

Naval Air Station Oceana

Virginia Beach Co: VA 23461-

Lanholding Agency: Navy

Property Number: 77200220097

Status: Excess

Reason: Secured Area

Bldg. 582

Naval Air Station Oceana

Virginia Beach Co: VA 23461-

Lanholding Agency: Navy

Property Number: 77200220098

Status: Excess

Reason: Secured Area

Bldg. 584

Naval Air Station Oceana

Virginia Beach Co: VA 23461-

Lanholding Agency: Navy

Property Number: 77200220099

Status: Excess

Reason: Secured Area

Bldg. 606

Naval Air Station Oceana

Virginia Beach Co: VA 23461-

Lanholding Agency: Navy

Property Number: 77200220100

Status: Excess

Reasons: Within airport runway clear zone; Secured Area

Bldg. 607

Naval Air Station Oceana

Virginia Beach Co: VA 23461-

Lanholding Agency: Navy

Property Number: 77200220101

Status: Excess

Reasons: Secured Area; Extensive deterioration

Bldg. 614

Naval Air Station Oceana

Virginia Beach Co: VA 23461-

Landholding Agency: Navy

Property Number: 77200220102

Status: Excess

Reason: Secured Area

Bldg. 821

Naval Air Station Oceana

Virginia Beach Co: VA 23461-

Landholding Agency: Navy

Property Number: 77200220103

Status: Excess

Reasons: Within airport runway clear zone; Secured Area

Bldg. 824

Naval Air Station

Virginia Beach Co: VA 23461-

Landholding Agency: Navy

Property Number: 77200220104

Status: Excess

Reasons: Within airport runway clear zone; Secured Area

Bldg. 1420

Naval Air Station Oceana

Virginia Beach Co: VA 23461-

Landholding Agency: Navy

Property Number: 77200220105

Status: Excess

Reasons: Within 2000 ft. of flammable or explosive material; Within airport runway clear zone; Secured Area

Bldg. A-2

Naval Air Station Oceana

Virginia Beach Co: VA 23461-

Landholding Agency: Navy

Property Number: 77200220106

Status: Excess

Reasons: Within airport runway clear zone; Secured Area; Extensive deterioration

Facility F-11

Naval Air Station Oceana

Virginia Beach Co: VA 23460-

Landholding Agency: Navy

Property Number: 77200220107

Status: Excess

Reasons: Within airport runway clear zone; Secured Area

Washington

Bldg. 6661

Naval Submarine Base, Bangor

Silverdale Co: Kitsap WA 98315-6499

Landholding Agency: Navy

Property Number: 77199730039

Status: Unutilized

Reason: Secured Area

Bldg. 604

Manchester Fuel Department

Port Orchard WA 98366-

Landholding Agency: Navy

Property Number: 77199810170

Status: Excess

Reasons: Within 2000 ft. of flammable or explosive material; Secured Area

Bldg. 288

Fleet Industrial Supply Center

Bremerton WA 98314-5100

Landholding Agency: Navy

Property Number: 77199810171

Status: Excess

Reasons: Within 2000 ft. of flammable or explosive material; Secured Area

Bldg. 47

Naval Radio Station T Jim Creek

Arlington Co: Snohomish WA 98223-

Landholding Agency: Navy

Property Number: 77199820056

Status: Unutilized

Reasons: Secured Area; Extensive deterioration

Bldg. 48

Naval Radio Station T Jim Creek

Arlington Co: Snohomish WA 98223-

Landholding Agency: Navy

Property Number: 77199820057

Status: Unutilized

Reasons: Secured Area; Extensive deterioration;

Coal Handling Facilities

Puget Sound Naval Shipyard

#908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons: Within 2000 ft. of flammable or explosive material; Extensive deterioration

Bldgs. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material; Secured Area

Bldg. 894

Naval Undersea Warfare Center

Keyport Co: Kitsap WA 98345-7610

Landholding Agency: Navy

Property Number: 77199920085

Status: Underutilized

Reasons: Within 2000 ft. of flammable or explosive material; Secured Area

Bldg. 73

Naval Undersea Warfare Center

Keyport Co: Kitsap WA 98345-

Landholding Agency: Navy

Property Number: 77199920152

Status: Underutilized

Reasons: Within 2000 ft. of flammable or explosive material; Secured Area

Bldg. 210A

Naval Station Bremerton

Bremerton Co: WA 98314-

Landholding Agency: Navy

Property Number: 77199930021

Status: Excess

Reasons: Within 2000 ft. of flammable or explosive material; Secured Area

Bldg. 511

Naval Station Bremerton

Bremerton Co: WA 98314-

Landholding Agency: Navy

Property Number: 77199930022

Status: Excess

Reasons: Within 2000 ft. of flammable or explosive material; Secured Area; Extensive deterioration

Bldg. 527

Naval Station Bremerton

Bremerton Co: WA 98314-

Landholding Agency: Navy

Property Number: 77199930023

Status: Excess

Reasons: Within 2000 ft. of flammable or explosive material; Secured Area

Bldg. 97

Naval Air Station

Whidbey Island

Oak Harbor Co: WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured Area; Extensive deterioration

Bldg. 786

Naval Undersea Warfare Center

Keyport Co: Kitsap WA 98345-

Landholding Agency: Navy

Property Number: 77199930042

Status: Unutilized

Reasons: Secured Area; Extensive deterioration

Bldg. 15

Naval Air Station, Whidbey Island

Oak Harbor Co: WA 98278-3500

Landholding Agency: Navy

Property Number: 77199930071

Status: Unutilized

Reason: Extensive deterioration

Bldg. 119

Naval Air Station, Whidbey Island

Oak Harbor Co: WA 98278-3500

Landholding Agency: Navy

Property Number: 77199930072

Status: Unutilized

Reason: Extensive deterioration

Bldg. 853

Naval Air Station, Whidbey Island

Oak Harbor Co: WA 98278-3500

Landholding Agency: Navy

Property Number: 77199930073

Status: Unutilized

Reason: Extensive deterioration

Bldg. 854

Naval Air Station, Whidbey Island

Oak Harbor Co: WA 98278-3500

Landholding Agency: Navy

Property Number: 77199930074

Status: Unutilized

Reason: Extensive deterioration

Bldg. 166

Puget Sound Naval Shipyard

Bremerton Co: WA 98314-5000

Landholding Agency: Navy

Property Number: 77199930101

Status: Excess

Reason: Secured Area

Bldg. 287

Puget Sound Naval Shipyard

Bremerton Co: WA 98314-5000

Landholding Agency: Navy

Property Number: 77199930102

Status: Excess

Reason: Secured Area

Bldg. 418

Puget Sound Naval Shipyard

Bremerton Co: WA 98314-5000

Landholding Agency: Navy

Property Number: 77199930103

Status: Excess

Reason: Secured Area

Bldg. 858

Puget Sound Naval Shipyard

Bremerton Co: WA 98314-5000

Landholding Agency: Navy

Property Number: 77199930104

Status: Excess

Reason: Secured Area

Bldg. 17

Naval Radio Station

Jim Creek

Arlington Co: WA 98223-8599

Landholding Agency: Navy

Property Number: 77200010073

Status: Excess

Reasons: Secured Area; Extensive deterioration

Bldg. 47

Naval Undersea Warfare

Keyport Co: Kitsap WA 98345-7610

Landholding Agency: Navy

Property Number: 77200010074

Status: Unutilized

Reasons: Within 2000 ft. of flammable or explosive material; Secured Area

Whitney Point Complex

Brinnon Co: Jefferson WA 98320-9899

Landholding Agency: Navy

Property Number: 77200010102

Status: Excess

Reason: Extensive deterioration

Bldg. 398

Naval Station

Bremerton Co: WA 98314-5000

Landholding Agency: Navy

Property Number: 77200020038

Status: Unutilized

Reasons: Within 2000 ft. of flammable or explosive material; Secured Area

Bldg. 976

Naval Station

Bremerton Co: WA 98314-5020

Landholding Agency: Navy

Property Number: 77200020039

Status: Unutilized

Reasons: Within 2000 ft. of flammable or explosive material; Secured Area; Extensive deterioration

8 Bldgs.

Naval Station

902, 903, 905, 907, 909-911, 915

Bremerton Co: WA 98314-5020

Landholding Agency: Navy

Property Number: 77200020040

Status: Unutilized

Reasons: Within 2000 ft. of flammable or explosive material; Secured Area

Bldg. 109

Naval Weapons Station

Port Hadlock Co: Jefferson WA 98339-9723

Landholding Agency: Navy

Property Number: 77200030020

Status: Unutilized

Reasons: Within 2000 ft. of flammable or explosive material; Secured Area; Extensive deterioration

Bldg. 157

Naval Weapons Station

Port Hadlock Co: Jefferson WA 98339-9723

Landholding Agency: Navy

Property Number: 77200030021

Status: Unutilized

Reasons: Within 2000 ft. of flammable or explosive material; Secured Area; Extensive deterioration

Bldg. 161

Naval Weapons Station

Port Hadlock Co: Jefferson WA 98339-9723

Landholding Agency: Navy

Property Number: 77200030022

Status: Unutilized

Reasons: Within 2000 ft. of flammable or explosive material; Secured Area; Extensive deterioration

Bldg. 170

Naval Weapons Station

Port Hadlock Co: Jefferson WA 98339-9723

Landholding Agency: Navy

Property Number: 77200030023

Status: Unutilized

Reasons: Within 2000 ft. of flammable or explosive material; Secured Area; Extensive deterioration

Bldg. 262

Naval Weapons Station

Port Hadlock Co: Jefferson WA 98339-9723

Landholding Agency: Navy

Property Number: 77200030024

Status: Unutilized

Reasons: Within 2000 ft. of flammable or explosive material; Secured Area; Extensive deterioration

Bldg. 482

Puget Sound Naval Shipyard

Bremerton Co: WA 98314-5000

Landholding Agency: Navy

Property Number: 77200040019

Status: Excess

Reason: Secured Area

Bldg. 529

Puget Sound Naval Shipyard

Bremerton Co: WA 98314-5000

Landholding Agency: Navy

Property Number: 77200040020

Status: Excess

Reason: Secured Area

Bldg. 133

Naval Undersea Warfare Station

Keyport Co: Kitsap WA 98345-7610

Landholding Agency: Navy

Property Number: 77200120133

Status: Unutilized

Reasons: Within 2000 ft. of flammable or explosive material; Secured Area; Extensive deterioration

Bldg. 2511

NAS Whidbey Island

Oak Harbor Co: Island WA 98278-3500

Landholding Agency: Navy

Property Number: 77200120157

Status: Excess

Reason: Secured Area

Bldg. 98

Naval Air Station

Oak Harbor Co: Whidbey Island WA 98278-

Landholding Agency: Navy

Property Number: 77200220022

Status: Unutilized

Reasons: Within 2000 ft. of flammable or explosive material; Floodway; Extensive deterioration

Bldg. 2667

Naval Air Station

Oak Harbor Co: Whidbey Island WA 98278

Landholding Agency: Navy

Property Number: 77200220023

Status: Unutilized

Reasons: Within 2000 ft. of flammable or explosive material; Floodway; Extensive deterioration

Bldg. 1990

Naval Station

Everett Co: Snohomish WA 98207-5001

Landholding Agency: Navy

Property Number: 77200230044

Status: Excess

Reasons: Secured Area; Extensive deterioration.

Land (by State)

California

Space Surv. Field Station

Portion/Off Heritage Road

San Diego CA 90012-1408

Landholding Agency: Navy

Property Number: 77199820049

Status: Excess

Reason: Within 2000 ft. of flammable or explosive material

Land

Naval Construction Battalion Center

Port Hueneme Co: Ventura CA 93043-4301

Landholding Agency: Navy

Property Number: 77199940001

Status: Underutilized

Reason: Secured Area

PCL-4 (11.60 acres)

Construction Battalion Center

Port Hueneme Co: Ventura CA 93043-4301

Landholding Agency: Navy

Property Number: 77200020095

Status: Underutilized

Reason: Secured Area

Parcel 8

Naval Base

Port Hueneme Co: Ventura CA 93043-4300

Landholding Agency: Navy

Property Number: 77200110040

Status: Underutilized

Reason: Secured Area

Parcel 10

Naval Base

Port Hueneme Co: Ventura CA 93043-4300

Landholding Agency: Navy

Property Number: 77200110041

Status: Underutilized

Reason: Secured Area

Parcel 12

Naval Base

Port Hueneme Co: Ventura CA 93043-4300

Landholding Agency: Navy

Property Number: 77200110043

Status: Underutilized

Reason: Secured Area

Parcel 13

Naval Base

Port Hueneme Co: Ventura CA 93043-4300

Landholding Agency: Navy

Property Number: 77200110044

Status: Underutilized

Reason: Secured Area

Parcel 14

Naval Base

Port Hueneme Co: Ventura CA 93043-4300

Landholding Agency: Navy

Property Number: 77200110045

Status: Underutilized

Reason: Secured Area

Eniwetok Playgrounds

Marine Corps Logistics Base

Barstow Co: San Bernardino CA 92311-

Landholding Agency: Navy

Property Number: 77200220034

Status: Underutilized

Reason: Secured Area

Colorado

Landfill

48th & Holly Streets

Commerce Co: Adams CO 80022-

Landholding Agency: GSA

Property Number: 54200220006

Status: Surplus

Reasons: Within 2000 ft. of flammable or explosive material; contamination

GSA Number: 7-Z-CO-0647

District of Columbia

1600 sq. ft./T-88

Naval Research Lab

Washington Co: DC 20375-5320

Landholding Agency: Navy

Property Number: 77200110118

Status: Unutilized

Reason: Within 2000 ft. of flammable or explosive material

Kentucky

64.47 acres

between airport & prison

Pine Knot Co: McCreary KY 42635-

Landholding Agency: GSA

Property Number: 54200210001

Status: Excess

Reasons: Within 2000 ft. of flammable or explosive material; Within airport runway clear zone

GSA Number: 4-J-KY-0610

Maine

Parcel 2

Naval Air Station

Canam Drive

Topsham Co: Cumberland ME 04086-

Landholding Agency: Navy

Property Number: 77200130026

Status: Unutilized

Reason: Secured Area

Parcel 3

Naval Air Station

Canam Drive

Topsham Co: Cumberland ME 04086-

Landholding Agency: Navy

Property Number: 77200130027

Status: Unutilized

Reason: Secured Area

Parcel 5

Naval Air Station

Canam Drive

Topsham Co: Cumberland ME 04086-

Landholding Agency: Navy

Property Number: 77200130028

Status: Unutilized

Reason: Secured Area

Maryland

6 Acres

Naval Air Station

Patuxent River Co: MD 20670-

Landholding Agency: Navy

Property Number: 77199940023

Status: Unutilized

Reason: Secured Area

Land—5000 sq. ft.

Naval Air Station

Patuxent River Co: MD 20670-1603

Landholding Agency: Navy

Property Number: 77200010023

Status: Unutilized

Reason: Secured Area

Michigan

Port/EPA Large Lakes Rsch Lab

Grosse Ile Twp Co: Wayne MI

Landholding Agency: GSA

Property Number: 54199720022

Status: Excess

Reason: Within airport runway clear zone

GSA Number: 1-Z-MI-554-A

Mississippi

Greenwood Boat Ramp

Greenwood Co: Leflore MS

Landholding Agency: GSA

Property Number: 54200230013

Status: Surplus

Reason: Within airport runway clear zone

GSA Number: 4-D-MS-0560

North Carolina

0.85 parcel of land

Marine Corps Air Station, Cherry Point

Havelock Co: Craven NC 28533-

Landholding Agency: Navy

Property Number: 77199740074

Status: Unutilized

Reason: Secured Area

5 (0.91) Parcels

Marine Corps Base

Camp Lejeune Co: NC

Landholding Agency: Navy

Property Number: 77200210080

Status: Underutilized

Reason: Secured Area

3 (0.91) Parcels

Marine Corps Base

Greater Sandy Run

Camp Lejeune Co: NC

Landholding Agency: Navy

Property Number: 77200210081

Status: Underutilized

Reasons: Within airport runway clear zone;

Secured Area

Ohio

Lewis Research Center

Cedar Point Road

Cleveland Co: Cuyahoga OH 44135-

Landholding Agency: GSA

Property Number: 54199610007

Status: Excess

Reasons: Within 2000 ft. of flammable or explosive material, Within airport runway clear zone

GSA Number: 2-Z-OH-598-I

Puerto Rico

Parcel 2E

Naval Security Group

Sabana Seca Co: Toa Baja PR

Landholding Agency: GSA

Property Number: 54200210024

Status: Excess

Reason: Within 2000 ft. of flammable or explosive material

GSA Number: 1-N-PR-496

Parcel 2R

Naval Security Group

Sabana Seca Co: Toa Baja PR

Landholding Agency: GSA

Property Number: 54200210025

Status: Excess

Reason: Within 2000 ft. of flammable or explosive material

GSA Number: 1-N-PR-494

Parcel 2W

Naval Security Group

Sabana Seca Co: Toa Baja PR

Landholding Agency: GSA

Property Number: 54200210026

Status: Excess

Reason: Within 2000 ft. of flammable or explosive material

GSA Number: 1-N-PR-495

330 acres

Naval Radio Transmitter Facility

Aguada Co: PR 00602-

Landholding Agency: Navy

Property Number: 77200130013

Status: Underutilized

Reasons: Floodway; Secured Area

242 acres

Naval Radio Receiver Facility

Salinas Co: PR 00751-

Landholding Agency: Navy

Property Number: 77200130014

Status: Underutilized

Reasons: Floodway; Secured Area

408 acres

Naval Radio Transmitter Facility

Isabela Co: PR 00662-

Landholding Agency: Navy

Property Number: 77200130015

Status: Underutilized

Reason: Secured Area

Washington

Hanford Training Site

Horn Rapids Rd.

Benton Co: WA

Landholding Agency: GSA

Property Number: 54200210012

Status: Excess

Reason: Within 2000 ft. of flammable or explosive material

GSA Number: 9-B-WA1198A

Land-Port Hadlock Detachment

Naval Ordnance Center Pacific Division

Port Hadlock Co: Jefferson WA 98339-

Landholding Agency: Navy

Property Number: 77199640019

Status: Underutilized

Reasons: Within 2000 ft. of flammable or explosive material; Secured Area

[FR Doc. 02-23051 Filed 9-12-02; 8:45 am]

BILLING CODE 4210-29-P